FEDERAL COMMUNICATIONS COMMISSION

47 CFR Part 64

[CC Docket No. 96-128; FCC 02-292]

Implementation of the Pay Telephone Reclassification and Compensation Provisions of the Telecommunications Act of 1996

AGENCY: Federal Communications Commission.

ACTION: Final rule.

SUMMARY: In this document, the Commission implemented certain aspects of per-payphone compensation pursuant to a 1997 remand by the U.S. Court of Appeals for the District of Columbia Circuit. To implement the remand, the Commission established a new default compensation amount per payphone per month for access code and subscriber toll-free calls, allocated this monthly amount among the designated payors of per-payphone compensation, resolved some compensation offset issues, determined issues regarding the valuation of payphone assets transferred by local exchange carriers to a separate affiliate or division, and resolved a number of issues raised in petitions for reconsideration.

DATES: Effective January 2, 2003.

FOR FURTHER INFORMATION CONTACT: Lynne Milne, Wireline Competition Bureau, Pricing Policy Division, (202) 418-1520.

SUPPLEMENTARY INFORMATION: This is a summary of the Commission's Fifth Order on Reconsideration and Order on Remand (Order) in CC Docket No. 96-128, adopted on October 17, 2002, and released on October 23, 2002. The complete text of this Order is available for public inspection Monday through Thursday from 8 a.m. to 4:30 p.m. and Friday from 8 a.m. to 11:30 a.m. in the Commission's Consumer and Governmental Affairs Bureau, Reference Information Center, Room CY-A257, 445 Twelfth Street, SW., Washington, DC 20554. The complete text is available also on the Commission's Internet site at www.fcc.gov. Alternative formats are available to persons with disabilities by contacting Brian Millin at (202) 418-7426 or TTY (202) 418-7365. The complete text of the Order may be purchased from the Commission's duplicating contractor, Qualex International, Room CY-B402, 445 Twelfth Street, SW., Washington, DC 20554, telephone 202-863-2893, facsimile 202-863-2898, or e-mail at qualexint@aol.com.

Synopsis of Fifth Order on Reconsideration and Order on Remand

1. Instead of revising its approach to estimating monthly call volumes at the average payphone, the Commission retained the estimate of 148 monthly compensable calls as determined in the Fourth Reconsideration Order, 67 FR 9610, March 4, 2002. In this regard, the Commission explicitly rejected the reconsideration arguments of: (1) Sprint and WorldCom that per-payphone compensation should be based on the 131 monthly compensable calls estimated by the Commission in 1996, (2) Sprint that the underlying call volumes were unreliable, (3) WorldCom that the Commission should reduce the monthly estimate by a set factor each year after the Interim Period, and (4) Sprint that the Commission should use a weighted averaged, instead of a straight average as used in the Fourth Reconsideration Order.

2. The Commission's calculation of a per-call compensation rate in the Third Report and Order, 64 FR 13701, March 22, 1999, included a component of $0.009 to reflect an assumed average delay in the rendering of payphone compensation according to the quarterly system established by industry consensus and endorsed by the Commission in the First Report and Order, 61 FR 52307, October 7, 1996. APCC requested that the Commission reconsider its deduction in the Fourth Reconsideration Order of this $0.009 from the per-call compensation rate. The Commission in this Order granted APCC's request and reinstated this $0.009 component for the purpose of calculating per-payphone compensation. Granting APCC's reconsideration petition on this issue effectively mooted Sprint's request for clarification that the 22.9 cent rate adopted in the Fourth Reconsideration Order be applied to all true-ups for the Intermediate Period, whether a carrier paid on a per-payphone or per-call basis. It also mooted WorldCom's request to clarify that the rate of 22.9 cents applies to payments for payphones that do not transmit payphone-specific coding digits, even if the carrier has compensated on a per-call, rather than per-payphone basis, for those payphones. The same 23.8 cent rate that applied to per-call compensation during the Intermediate Period applies to determine per-payphone compensation.

3. The Colorado Payphone Association (CPA) asked the Commission to reconsider the 24-cent compensation rate established in the Third Report and Order arguing that the Commission inappropriately used a “stripped down” coinless phone model for the purpose of calculating payphone capital costs, inappropriately used 11.25% as the interest rate, and incorrectly calculated maintenance costs. The Commission denied CPA's reconsideration petition with respect to each of these factors.

4. The Commission denied the RBOC Coalition's reconsideration petition request to add some amount of additional compensation to the per-payphone compensation required in this Order as compensation for 1+ calls originated during the Interim Period for which the payphone service providers (PSPs) were not otherwise compensated. The definition provided of a 1+ call was an interLATA toll call originating at a payphone and carried by an interexchange carrier (IXC), where the IXC's operator or its automated rating system directs that calling party to deposit coins for the call.

5. After considering reconsideration requests regarding the per-payphone compensation calculation, the Commission recalculated a per-payphone compensation amount based on a per-call rate of $0.238 cents. The per-call rate of $0.238 multiplied by the call estimate of 148 calls per month equals a compensation amount of $35.224 per payphone per month for the Interim Period (November 7, 1996, through October 6, 1997) and the Intermediate Period (October 7, 1997, through April 20, 1999). The compensation obligations as shown at Appendices A, B and C are calculated using this increased amount.

6. After determining the amount of compensation to be paid per payphone per month, the Commission next allocated this monthly payphone compensation obligation among the payors of per-payphone compensation, to implement the remand by the U.S. Court of Appeals for the District of Columbia Circuit in Illinois Pub. Telecomm. Ass'n v. FCC, 117 F.3d 555 (D.C. Cir. 1997), clarified on reh'g, 123 F.3d 693 (D.C. Cir. 1997), cert. denied sub nom. Virginia State Corp. Comm'n v. FCC, 523 U.S. 1046 (1998) (hereinafter Illinois). See Remand Public Notice, 62 FR 43686, August 15, 1997. During the first four months of 2002, the four Regional Bell Operating Companies (RBOCs) provided the Wireline Competition Bureau with aggregate call data listing the next destination past the RBOC switch of payphone calls placed during 1997, 1998, and October 1, 2000, through September 30, 2001. From that data set, the Commission aggregated the numbers to determine the total number of payphone calls received by each carrier in each of the three time periods, as well as the total number of calls placed in the time period. From there, each carrier's share of the total was calculated, and thus the proportion of the monthly $35.224 per-payphone compensation that each identified carrier should rightfully bear.

7. Once the basic aggregation was completed, the Commission adjusted the data in various ways in order to obtain a reasonable allocation. For example, the Commission excluded unusable data from the final data set, such as, calls routed to destinations not identified in the RBOC data. Another exclusion concerned some RBOC data submitted for payphone calls routed to destinations that were not IXCs or other carriers, including entities with dedicated private line service assigned a carrier identification code (CIC), a four digit number that uniquely identifies the destination of the call, even though they are not “communications carriers.” The Commission also excused governmental entities, such as, the Internal Revenue Service, and various state governments, that were in the RBOC data. Because such non-carrier entities had no notice that they could be responsible for payphone compensation, the Commission decided not to hold them liable and removed those calls from the data set. The non-carrier CIC holders eliminated from consideration are: AmVox, Arco Paypoint, Arthur Anderson & Co., Buypass Corp., California State Lottery, Cam-Net, Card Establishment, Compuserve, Contact America, Dean Witter, Department of Treasury (IRS), Discover & Co., EDS, Envoy Corporation, ETSC, First USA, Full Service Computing, Harmonic Systems, HUB Distributing, Idaho State Government, JC Penney Business Services, Landmark Communications, Legal Aid Society of Orange County, MAG Card, MasterCard International, MCSC Access in Canada, Merchant Link, Mobile Oil Credit Corp., Morgan Stanley, National Data Corp., Nexus Communications, Paradise Communications, PaymentTech, Professional Fusion Enterprises, PSA, Inc., Public Service Company of New Mexico and Gas Company of New Mexico, Resource Technology, Southeast Switch, State of California, Stone & Co., Telemoney Services, Transaction Network Services, United Refining, Vacation Villages of America, Visa USA, Vital Processing Services, VoiceCom Systems, VTA, Inc., and Weeks Communications.

8. The Commission may not have identified all of them; thus, some entities in the Tables of Allocations in Appendices A, B, or C may not in fact be carriers. The Commission made the following provision for entities that are not “communications carriers” and thus not responsible for per-payphone compensation. Any entity named in the Commission's allocation in this Order that then receives a request for per-payphone compensation from a PSP or other entity may, within 90 days of receiving such a request, file a waiver request with the Wireline Competition Bureau for exclusion from the per-payphone allocation, with a demonstration that the entity provides no communications service to others.

9. In the First Report and Order, the Commission decided that local exchange carriers (LECs) must pay payphone compensation to the extent that they carry compensable payphone calls. The Commission in this Order allocated to both RBOC and non-RBOC incumbent LECs 2.19% of the calls originating from payphones within their own service territories because it reflects the fact that an incumbent LEC does receive and carry compensable payphone calls originated within its territory. This percentage and the appropriate compensation amount were listed in Appendices A, B and C. Rather than making each incumbent LEC remit payment to each PSP in the nation the Commission required each incumbent LEC to remit the 2.19% payment to PSPs for each payphone located in its service territory, even if the PSP had/has its payphones connected to a competitive LEC.

10. After an examination of the RBOC data showed that the RBOCs themselves sometimes behaved as IXCs, the Commission concluded that incumbent LECs owe compensation for calls where the incumbent LEC performed the function of an IXC. This compensation obligation was allocated in a manner consistent with other payors of per-payphone compensation. The Allocation Tables reflect compensable payphone calls routed to identified incumbent LECs acting in an IXC capacity, and specify the amount of per-payphone compensation to be paid by that incumbent LEC to all PSPs nationwide.

11. In Appendices A, B and C, the Commission identified payors obligated to pay per-payphone compensation by the names of payors and CICs provided by the RBOCs in the payphone call data. The Commission explained in this Order that given consolidation and change in the telecommunications industry over the last several years, the payor names may fail to accurately identify current per-payphone obligations imposed by this Order. Any failure on the Commission's part in the name identification in Appendices A, B and C does not excuse full payment by any entity of its compensation obligation. According to the Commission, the per-payphone obligation must be paid by each listed entity, or by its successors in interest, assigns, transferees or their entity legally responsible for the listed entity's obligations under this Order.

12. The Commission noted, moreover, that this name identification was provided for the convenience of carriers and PSPs alike, and was not intended to impose a modification to otherwise appropriate intracorporate relationships. If an entity listed in Appendices A, B or C has provided for payment of its payphone compensation allocations through separate subsidiaries or otherwise, it may, absent some other resolution agreeable to the PSPs to which it owes payment, ask for clarification from the Wireline Competition Bureau, which will promptly provide the appropriate attribution of allocation amounts among subsidiaries or other entities, or otherwise provide clarification of the per-payphone compensation obligation required by this Order. An entity listed in Appendices A, B, or C may not, however, avoid its obligation to pay per-payphone compensation by requesting such clarification.

13. KTNT Communications is an exception in the Commission's listing of entities in Appendices A, B, and C according to the RBOC data. The Commission identified KTNT Communications as the company obligated to pay the per-payphone compensation required by this Order for 39 operator service providers. In explaining this decision, the Commission noted that KTNT Communications filed a notice with the Public Utility Commission of Texas on April 18, 1997 that it was the management company responsible for these other operator service providers. In addition, KTNT Communications and each of the 38 other operator service providers submitted “concurring carrier” documentation to qualify to use KTNT Communications tariff submissions. The 38 other operator service providers with payphone call data aggregated with data for KTNT Communications are: Bay TNT Network, Who Ever, U Speak Long Distance, It Doesn't Matter, Zimmer Way, I Don't Care, I Don't Know, Riverbend Communications, Minh Long Distance, Viva Tel L.D., Bryant Service, Rea Long Distance, Signature Network Service, Brown Service Co., Exco Long Distance, Mustang Operators, Far Point, Knox Service Group, Sandell Operator Service, Christine LD Service, Vera Long Distance, Old Laredo Service, Old Home Operator, Andril Service Group, Any One Is Okay, MCV, Brahms Communications, Forest Pine Telcom, Amadeus, Dvorak, KBTN, Callum Long Distance, Sunrise Operator, Wisteria LD Service, World Window, Hickory Grover Group, Alert Operators, and Friendly Voice Network. While KTNT Communications must pay all of the per-payphone compensation required in this Order for itself and each of the 38 entities listed in this paragraph, KTNT Communications has a right of recovery from these listed 38 entities if such recovery does not lead to double recovery by KTNT Communications.

14. In this Order, the Commission granted Sprint's petition for reconsideration regarding the obligation of resellers to pay per-payphone compensation to the following extent. The RBOC call data listed carriers receiving calls by name and by CIC. Because many resellers have their own CICs, numerous resellers are included on these lists, and hence included in the allocation delineated at Appendices A, B and C. Accordingly, the Commission addressed at least part of Sprint's concern by including resellers as well as “first switch” carriers, without regard to the label borne by the carrier. Further, the Commission explicitly held that allocating compensation obligations among carriers through the use of this methodology replaces the more general statements made in the Fourth Reconsideration Order about requiring first facilities-based carriers to bear the entire burden of per-payphone compensation. Moreover, the Commission reconsidered its decision to use Carrier Locator Reports to distinguish IXCs from resellers and instead made the allocation without regard to whether a company considers itself to be an IXC, a reseller, or some other type of provider of telecommunications services.

15. In contrast, the Commission recognized in this Order that calls routed to facilities-based carriers' CICs may in fact have been ultimately routed to resellers. Given the inclusion of a significant number of resellers in the allocation methodology, the Commission decided that the ultimate impact on the compensation paid by other carriers will most likely not be significant. Sprint's proposed alternative method for allocating per-payphone compensation proposal effectively would have excluded all resellers from compensation and the Commission did not consider it to be fair compensation to PSPs. The Commission stipulated explicitly that, if a carrier has data that payphone calls allocated to them (i.e., routed to its CIC) were actually carried by resellers, nothing in this Order prevents carriers from seeking reimbursement of the cost of these calls from resellers. The Commission added that carriers may in no way delay payment of compensation to PSPs on account of seeking such reimbursement.

16. In adopting its allocation methodology, the Commission explicitly denied reconsideration petitions asking the Commission to establish alternative ways of calculating compensation for the Interim and Intermediate Periods. The Commission also rejected ITC‸DeltaCom's reconsideration petition request to exempt from Interim Period compensation obligations those carriers with revenues below $100 million. In addition, APCC, Sprint Corporation, MCI and Frontier Corporation filed petitions for reconsideration or review of a Bureau-level decision and a Division-level decision, each related to per-payphone compensation for the Intermediate Period. See Implementation of the Pay Telephone Reclassification and Compensation Provisions of the Telecommunications Act of 1996, CC Docket No. 96-128, Memorandum Opinion & Order, 63 FR 26497, May 13, 1998; Order, 63 FR 26495, May 13, 1998. These petitions attack various aspects of the waiver process by which per-payphone compensation was paid during the Intermediate Period. After establishing in the Fourth Reconsideration Order and this Order the methodology for calculating and apportioning per-payphone compensation for the Interim and Intermediate Periods, and allocating the responsibility for per-payphone compensation to as large a group of carriers as possible, the Commission dismissed these petitions as moot.

17. In its reconsideration petition, Sprint Corporation asserted that it did not believe the obligation created in the Fourth Reconsideration Order regarding per-payphone compensation for the Intermediate Period was intended to force carriers that previously paid on a per-call basis to now conduct true ups on a per-payphone basis for the Intermediate Period. The Commission declared in this Order that if carriers have already paid per-call compensation on payphones for which they received coding digits in the Interim, Intermediate or any other period, nothing in the Fourth Reconsideration Order or this Order requires carriers to now go back and apply per-payphone compensation to these payphones.

18. CPA requested reconsideration of the decision that PSPs must pay refunds for the Intermediate Period. In this Order, the Commission affirmed its decision in the Third Report and Order that PSPs must refund the difference between payments they received at the 28.4 cent rate established in the Second Report and Order, 62 FR 58659, October 30, 1997, and payments recalculated at a 23.8 cent rate.

19. The Commission affirmed in this Order the decisions in the Third Report and Order and the Fourth Reconsideration Order that obligations for payment of outstanding compensation for the Interim and Intermediate Periods, and payment of refunds and any adjustments, shall run from specific carriers to specific PSPs. The Commission declined to adopt APCC's reconsideration petition to the extent it asked for the establishment of a carrier-to-carrier mechanism for resolving payments and refunds. The Commission, however, reiterated its conclusion in the Fourth Reconsideration Order that alternative arrangements between or among carriers, with the agreement of the PSP, are not prohibited.

20. The Commission explained how carriers and PSPs should handle the compensation and refund process by providing the following guidelines to clarify the requirements of the Third Report and Order. After the effective date of this Order, PSPs and carriers may render bills to one another or otherwise arrange for payment of outstanding Interim and Intermediate Period compensation obligations or refunds. They may use whatever commercially reasonable payment or dispute resolution processes to handle this process they may currently use in their dealings with one another or to which they may otherwise mutually agree, including clearinghouse processes. In accordance with the Third Report and Order determination that “IXCs may recover their overpayments to the PSPs at the same time as the PSPs receive payment from the IXCs for the Interim Period,” the Commission clarified in this Order that this means IXCs (or other carriers rendering payment) shall initially claim an offset for refunds of overpayments only against amounts claimed by the PSP for Interim and Intermediate Period compensation. Only after the carrier and the PSP have resolved the offset against this amount may the IXC “deduct the remaining overpayment from future payments to PSPs” as stipulated in the Third Report and Order. The Commission clarified that IXCs (or other carriers claiming refunds) may only withhold undisputed amounts from future payments. Thus, any carrier wishing to deduct a refund out of future payments to PSPs may only do so after providing that specific PSP notice of the refund claimed, and allowing the PSP adequate time to dispute the claim. To the extent a PSP disputes any portion of the refund claimed, the carrier may not deduct that portion from any future payment until it resolves the dispute with the PSP. Again, carriers and PSPs may use existing commercially reasonable processes to handle these disputes and arrange for payment. The only requirement the Commission placed on these processes is that if a carrier is able to apply undisputed amounts against future payments, the carriers must allow PSPs to make payments of refunds over a reasonable number of future payments, subject to ongoing accrual of interest, if reasonably requested by the PSP.

21. The Commission in this Order rejected reconsideration requests and affirmed its decision in the Fourth Reconsideration Order to apply the IRS-prescribed interest rate to payments of Interim and Intermediate Period compensation, as well as to refunds owed by PSPs to carriers. The Commission specified, however, that because it had reinstated the $0.009 interest rate component as described above, the IRS-prescribed interest rate will only begin to accrue after the date payment normally would have been rendered under the quarterly payment system applicable to payphone compensation. Consistent with the Commission's assumptions under prior orders in this proceeding, the IRS-prescribed interest rate for payments that should have been made for the first quarter of the year will begin accruing on July 2 of that same year, for the second quarter of the year on October 2 of that same year, for the third quarter on January 2 of the next year, and for the fourth quarter on April 2 of the next year.

22. WorldCom asked the Commission to clarify that, with the exception of Interim Period inmate calls not otherwise compensated, PSPs may not now submit any new claims for any other type of coinless payphone call after the one year deadline for submitting calls for compensation. The Commission decided it was not necessary to further clarify its holding and rejected WorldCom's clarification request.

23. In this Order, the Commission denied CPA's reconsideration petition asking the Commission to require carriers to implement targeted call blocking, the technological ability of an IXC to not accept (or “block”) a dial-around access code call from one payphone while accepting calls from another payphone.

24. The Commission decided in this Order that it is constrained by the court's holding in Illinois to allow LECs to use net book value when valuing payphone assets transferred to a separate affiliate or operating division. The Commission noted that the court's holding, however, was enunciated in the specific context of the transfers at issue in Illinois. Thus, to avoid confusion as to the reach of the Commission's implementation of the court's decision, the Commission provided in this Order clarification as follows. If a LEC chooses to retain payphone assets, reclassification of these assets from regulated to nonregulated status must be consistent with § 32.32 and the Commission's part 64 cost allocation rules. If a LEC chooses to make a one-time transfer of payphone assets to a nonregulated affiliate or operating division, then such a transfer would be recorded at net book value. The Commission expressly limited this treatment to only such transfers as may be made pursuant to Commission implementation of section 276(b)(1)(B), as it is only these types of transfers that could reasonably be considered the kind of one-time industry reform contemplated by the court in Illinois. The Commission also explained that, to the extent a transfer of payphone assets does not meet these requirements, the Commission's affiliate transaction rules would apply. In this event, carriers were reminded that they must include in fair market valuations of payphone assets the going concern value associated with location contracts supporting the payphone assets.

25. The Commission also clarified that the effective date of the Fourth Reconsideration Order and this Order shall be 30 days after the date that this Order is published in the Federal Register. The Commission specifically declined, however, to require compensation payment to be made within thirty days after release of this Order, as the RBOC Coalition requested. According to the Commission, once any PSP or carrier has performed the tasks necessary to render bills for compensation or refunds in accordance with this Order, the PSP or carrier may render such bills as soon as practicable after this Order's effective date, provided that they observe the offset resolution guidelines described in the Order.

26. The Commission delineated the results of its allocations, showing each carrier's pro rata share of the per-payphone payment, in Tables of Allocation located in Appendices A, B and C. In Appendix A, the Commission identified the payors and designated the monthly per-payphone compensation amounts for the Interim Period, beginning November 7, 1996 through October 6, 1997.

Appendix A.—Interim Period Allocation List
No. | Name | Percentage | Amount
1 | AT&T Communications | 35.6752385 | $12.56624601
2 | MCI | 27.1012154 | 9.54613210
3 | Sprint | 11.8235636 | 4.16473205
4 | WorldCom | 11.7792597 | 4.14912643
5 | LCI International | 2.5385089 | 0.89416436
6 | Frontier Communications Services | 2.3634942 | 0.83251720
7 | ILEC 2.19 | 2.1900000 | 0.77140560
8 | Cable & Wireless | 0.9357654 | 0.32961401
9 | Global Crossing Telecommunications | 0.6794139 | 0.23931675
10 | Switched Service Communications | 0.5008847 | 0.17643164
11 | U.S. Long Distance | 0.4286315 | 0.15098115
12 | Tel America | 0.3227813 | 0.11369647
13 | WorldCom Technologies | 0.2815205 | 0.09916277
14 | Qwest | 0.2801439 | 0.09867788
15 | Long Distance Savers | 0.1505964 | 0.05304608
16 | Frontier Communications-North Central Region | 0.1446970 | 0.05096805
17 | Pac-West Telecomm dba AmeriCall | 0.1425208 | 0.05020151
18 | Frontier Communications Int'l, Inc. | 0.1390850 | 0.04899130
19 | Telco Communications Group dba Dial & Save | 0.1360130 | 0.04790920
20 | Bell Atlantic Communications | 0.1346397 | 0.04742549
21 | Brooks Fiber Communications | 0.1134805 | 0.03997236
22 | Business Telecom, Inc. (BTI) | 0.1101138 | 0.03878650
23 | NETECH Comm. (US West) | 0.0989391 | 0.03485029
24 | One Call Communications | 0.0986707 | 0.03475578
25 | ATX Telecommunications Services | 0.0941000 | 0.03314579
26 | McLeodUSA | 0.0938146 | 0.03304526
27 | WorldXChange | 0.0844956 | 0.02976272
28 | American Network Exchange (AMNEX) | 0.0666730 | 0.02348490
29 | Broadwing Communications Services Inc. | 0.0551409 | 0.01942282
30 | American Telco | 0.0534454 | 0.01882561
31 | WesTel | 0.0517618 | 0.01823259
32 | West Coast Telecommunications | 0.0513034 | 0.01807112
33 | OCI | 0.0503072 | 0.01772023
34 | Access Long Distance | 0.0448941 | 0.01581348
35 | Total-Tel USA | 0.0442117 | 0.01557311
36 | GST Call America | 0.0429595 | 0.01513205
37 | NYNEX—Corridor | 0.0404028 | 0.01423148
38 | US Long Distance | 0.0384286 | 0.01353608
39 | Eastern Telecom International | 0.0362242 | 0.01275963
40 | Network Operator Services | 0.0351831 | 0.01239290
41 | GTE Communications Corp. | 0.0344361 | 0.01212976
42 | Shared Communications Services | 0.0329638 | 0.01161116
43 | Long Distance/USA (Sprint) | 0.0321199 | 0.01131393
44 | DeltaCom L.D.S. | 0.0299628 | 0.01055411
45 | Tandem Access for Database Query | 0.0260948 | 0.00919165
46 | The CommuniGroup Of KC | 0.0245338 | 0.00864178
47 | Ameritel | 0.0244719 | 0.00861997
48 | U.S. WATS | 0.0237662 | 0.00837141
49 | LONG DISTANCE OF MICHIGAN | 0.0231463 | 0.00815304
50 | Consolidated Network | 0.0223181 | 0.00786132
51 | Westinghouse Electric Corp. | 0.0210979 | 0.00743153
52 | ICON Communications | 0.0205224 | 0.00722881
53 | T-NETIX, Inc. | 0.0201631 | 0.00710224
54 | Telecom*USA (MCI) | 0.0186833 | 0.00658099
55 | Teltrust | 0.0178732 | 0.00629566
56 | EconoPhone | 0.0176599 | 0.00622051
57 | Switch 2000 | 0.0158645 | 0.00558811
58 | VarTec Telecom | 0.0153027 | 0.00539021
59 | Chadwick Telephone | 0.0149991 | 0.00528328
60 | One Star Long Distance | 0.0142973 | 0.00503608
61 | Capital Telecommunications | 0.0142091 | 0.00500501
62 | BN1 Telecommunications | 0.0141515 | 0.00498473
63 | I-Link Communications | 0.0138405 | 0.00487516
64 | American Telecommunications Enterprises | 0.0137892 | 0.00485709
65 | Touch America, Inc. | 0.0137339 | 0.00483762
66 | U.S. Link | 0.0134288 | 0.00473015
67 | Nationwide Communications | 0.0133776 | 0.00471211
68 | Deluxe Data Systems | 0.0132089 | 0.00465272
69 | Long Distance Management | 0.0129085 | 0.00454690
70 | Intermedia Communications | 0.0127663 | 0.00449680
71 | XO Communications | 0.0127328 | 0.00448501
72 | NATIONAL Telecom of Florida | 0.0122282 | 0.00430726
73 | Feist Long Distance | 0.0122252 | 0.00430620
74 | Intercontinental Communications Group (ICG) | 0.0119296 | 0.00420207
75 | American Long Lines | 0.0114326 | 0.00402701
76 | Call America Business Comm. Corp. | 0.0095168 | 0.00335218
77 | IBM (Advantis) | 0.0091183 | 0.00321183
78 | Valu-Line of Kansas | 0.0081410 | 0.00286759
79 | General Communication | 0.0079124 | 0.00278708
80 | North American Communications | 0.0077779 | 0.00273969
81 | Eastern Telephone Systems | 0.0077552 | 0.00273169
82 | MFS Intelnet | 0.0077267 | 0.00272166
83 | Fox Communications | 0.0076554 | 0.00269654
84 | Global Crossing Telemanagement | 0.0073930 | 0.00260412
85 | ATI Telecom | 0.0073558 | 0.00259101
86 | Hedges & Associates | 0.0073188 | 0.00257797
87 | Cincinnati Bell Long Distance | 0.0060972 | 0.00214766
88 | Telemanagement Consultants Corp. | 0.0060399 | 0.00212750
89 | U.S. Communications | 0.0059806 | 0.00210660
90 | Network Plus | 0.0057186 | 0.00201433
91 | Action Telcom Co. | 0.0056086 | 0.00197558
92 | GST Telecom | 0.0055754 | 0.00196386
93 | Ciera Network Systems | 0.0053358 | 0.00187949
94 | Long Distance Discount | 0.0049896 | 0.00175754
95 | Frontier Communications of the Great Lakes | 0.0049638 | 0.00174843
96 | Electric Lightwave | 0.0048339 | 0.00170270
97 | Long Distance Wholesale Club (Excel) | 0.0047378 | 0.00166884
98 | Eclipse Communications | 0.0047049 | 0.00165727
99 | ConQuest | 0.0045662 | 0.00160842
100 | CUSTOMER TELECOM NET dba CTN | 0.0045581 | 0.00160555
101 | POPP Telcom | 0.0045046 | 0.00158671
102 | Off Campus Telecommunications | 0.0043316 | 0.00152577
103 | Long Distance Telephone Savers | 0.0043164 | 0.00152041
104 | PSP Marketing Group | 0.0042606 | 0.00150076
105 | Telephone Assoc. Long Distance Svcs. | 0.0038594 | 0.00135945
106 | Broadwing Telecommunications Inc. | 0.0038149 | 0.00134377
107 | Cooperative Communications | 0.0037533 | 0.00132206
108 | Cleartel Communications | 0.0036203 | 0.00127523
109 | Austin Bestline | 0.0034801 | 0.00122582
110 | KLP, Inc. dba Call-America | 0.0033858 | 0.00119262
111 | United Communications | 0.0032397 | 0.00114116
112 | Cherry Communications | 0.0032314 | 0.00113822
113 | South Carolina Network | 0.0031970 | 0.00112610
114 | The CommuniGroup | 0.0031261 | 0.00110112
115 | Digital Network, Inc. | 0.0028377 | 0.00099956
116 | IDS Long Distance | 0.0028330 | 0.00099791
117 | Citizens Communications | 0.0025995 | 0.00091563
118 | TCG | 0.0024981 | 0.00087993
119 | Arcada Communications | 0.0023550 | 0.00082953
120 | American Tel Group | 0.0022940 | 0.00080805
121 | Countdown Communications | 0.0022744 | 0.00080114
122 | Long Distance USA | 0.0022334 | 0.00078671
123 | MRC Telecommunications | 0.0022097 | 0.00077833
124 | TCA Long Distance | 0.0021371 | 0.00075277
125 | Norlight Telecommunications | 0.0020836 | 0.00073392
126 | Global Crossing Bandwidth | 0.0017834 | 0.00062817
127 | Capital Network Systems (AMNEX) | 0.0016996 | 0.00059868
128 | TransNet | 0.0016856 | 0.00059372
129 | LCC | 0.0016652 | 0.00058656
130 | Iowa Communications Network | 0.0016243 | 0.00057216
131 | Parkway Communications | 0.0016207 | 0.00057087
132 | TresCom U.S.A. | 0.0015496 | 0.00054582
133 | Convergent Communications | 0.0015135 | 0.00053311
134 | NEXTLINK | 0.0013910 | 0.00048996
135 | Cypress Telecommunications Corp. (Cytel) | 0.0013087 | 0.00046097
136 | Yavapai Telephone Exchange | 0.0012903 | 0.00045451
137 | MVP Communications | 0.0011185 | 0.00039398
138 | C-COM | 0.0011021 | 0.00038821
139 | United Telephone Co. | 0.0010314 | 0.00036331
140 | US Comm. dba Southwest L.D.N. | 0.0010174 | 0.00035838
141 | CTS Telcom of Florida | 0.0010157 | 0.00035776
142 | Telescan | 0.0010114 | 0.00035625
143 | Ionex Telecommunications | 0.0010013 | 0.00035269
144 | Logix Communications | 0.0009404 | 0.00033124
145 | Phonetel Technologies | 0.0009246 | 0.00032569
146 | AT&T Canada Long Distance Services Co. | 0.0009223 | 0.00032489
147 | Mon-Cre Long Distance | 0.0009146 | 0.00032217
148 | Connect America Communications | 0.0008774 | 0.00030905
149 | Concord Telephone Long Distance | 0.0008735 | 0.00030770
150 | WATS/800 | 0.0008587 | 0.00030248
151 | Athena International | 0.0008516 | 0.00029998
152 | First Financial Management Corp. | 0.0008481 | 0.00029873
153 | International Telcom, Ltd | 0.0008441 | 0.00029734
154 | Sunshine Telephone Inc. dba SUNTEL | 0.0008324 | 0.00029319
155 | Keystone Telecom | 0.0008213 | 0.00028929
156 | Powercom Corp. | 0.0008187 | 0.00028838
157 | Midco Communications | 0.0007770 | 0.00027368
158 | T-One Communications | 0.0007631 | 0.00026880
159 | Star Tel, Inc. | 0.0007553 | 0.00026604
160 | Eastern Telecom dba InterQuest | 0.0007479 | 0.00026343
161 | American Telesource International | 0.0007413 | 0.00026112
162 | Econo. Call Long Distance Services | 0.0007150 | 0.00025186
163 | TELUS Communications (Edmonton) | 0.0006984 | 0.00024599
164 | Telehop Communications | 0.0006840 | 0.00024092
165 | KTNT Communications | 0.0006757 | 0.00023802
166 | AT&T EasyLink Services | 0.0006601 | 0.00023251
167 | Valuline Long Distance | 0.0006399 | 0.00022538
168 | American Express Travel Related Services | 0.0006270 | 0.00022086
169 | Interlink Telecommunications | 0.0005725 | 0.00020165
170 | US Link Long Distance | 0.0005406 | 0.00019041
171 | Americall Communications | 0.0005347 | 0.00018836
172 | Intl.800 Telecom dba Telecall Long Dist. (EGLOBE) | 0.0005293 | 0.00018645
173 | Union Telephone Co. | 0.0004803 | 0.00016918
174 | Western Telecom, Inc. | 0.0004568 | 0.00016092
175 | Uni-Tel of Farmington | 0.0004503 | 0.00015860
176 | Euronet Communications Corp. | 0.0004437 | 0.00015629
177 | Show-Me Long Distance | 0.0004221 | 0.00014869
178 | North American Telephone | 0.0004139 | 0.00014579
179 | Dial-Net, Inc. | 0.0004132 | 0.00014553
180 | USLINK | 0.0004120 | 0.00014512
181 | First Communications | 0.0004057 | 0.00014292
182 | TelaMarketing Communications | 0.0003922 | 0.00013815
183 | TXU Communications | 0.0003481 | 0.00012261
184 | Shoreham Telephone | 0.0003353 | 0.00011809
185 | U.S. Connect Corp. | 0.0003313 | 0.00011669
186 | AT&T Global Network Services (AGNS) | 0.0003161 | 0.00011133
187 | Telephone Communications Corp. | 0.0003080 | 0.00010850
188 | Alternate Communications Technology | 0.0003071 | 0.00010817
189 | Baystar Satellite Paging | 0.0003000 | 0.00010568
190 | JSM Tele-Page | 0.0002989 | 0.00010527
191 | Systems 1000 | 0.0002880 | 0.00010145
192 | Operator Service Co. | 0.0002539 | 0.00008944
193 | Autumn Communications | 0.0002291 | 0.00008070
194 | Call America/Palm Desert | 0.0002226 | 0.00007842
195 | NACT | 0.0002222 | 0.00007827
196 | ACC Long Distance Corp. | 0.0001873 | 0.00006597
197 | NTS Communications | 0.0001863 | 0.00006564
198 | TTI Telecommunications | 0.0001830 | 0.00006446
199 | Sound Communications West | 0.0001828 | 0.00006439
200 | National Network Corp. | 0.0001826 | 0.00006432
201 | ARCADA | 0.0001798 | 0.00006332
202 | PT-1 Communications | 0.0001798 | 0.00006332
203 | LCI | 0.0001658 | 0.00005840
204 | TresCom U.S.A., Inc./TresCom Caribbean | 0.0001524 | 0.00005366
205 | Execulines of Sacramento | 0.0001521 | 0.00005359
206 | Dancris Comm. | 0.0001441 | 0.00005076
207 | Midcom of Arizona, Inc | 0.0001432 | 0.00005043
208 | Digital Technologies | 0.0001397 | 0.00004922
209 | Connect Americom Corp. | 0.0001359 | 0.00004786
210 | Communications Options | 0.0001329 | 0.00004680
211 | KRB Telecom | 0.0001301 | 0.00004584
212 | Connect America Corp. | 0.0001199 | 0.00004224
213 | Oncor Communications | 0.0001195 | 0.00004209
214 | Tele Tech | 0.0001177 | 0.00004147
215 | ECI Communications | 0.0001161 | 0.00004088
216 | NTS Communications/GMW Co. | 0.0001116 | 0.00003930
217 | Ameritech | 0.0001110 | 0.00003908
218 | Capsule Communications | 0.0001063 | 0.00003743
219 | Telenet Comm. Corp. | 0.0001055 | 0.00003717
220 | American Telecommunications Holding | 0.0001038 | 0.00003655
221 | Citilink of UT | 0.0001035 | 0.00003647
222 | NTI | 0.0001030 | 0.00003629
223 | Business Discount Plan dba LD Discount Plan | 0.0001007 | 0.00003548
224 | Home Owners L.D. dba HOLD Billing Svcs. | 0.0000993 | 0.00003497
225 | QCC, Inc. | 0.0000964 | 0.00003394
226 | Tele-Sys., Inc. | 0.0000953 | 0.00003357
227 | Telecom Affiliates | 0.0000894 | 0.00003148
228 | USLink Long Distance | 0.0000871 | 0.00003067
229 | Americom Communications | 0.0000859 | 0.00003027
230 | L.D. Services | 0.0000839 | 0.00002957
231 | Telecommunications Service Center | 0.0000824 | 0.00002902
232 | SWITCHED SERVICE | 0.0000820 | 0.00002887
233 | Nuestra Telefonica | 0.0000715 | 0.00002520
234 | Alternative Long Distance dba Money $avers | 0.0000636 | 0.00002241
235 | Call Savers | 0.0000592 | 0.00002086
236 | Excel Telecommunications | 0.0000554 | 0.00001950
237 | Asia International Services Corp. | 0.0000554 | 0.00001950
238 | WestCom Inc. (Western Telecom, Inc.) | 0.0000501 | 0.00001763
239 | ComCentral dba Southnet Services | 0.0000467 | 0.00001646
240 | ABC Telecom | 0.0000465 | 0.00001638
241 | Gulf Long Distance | 0.0000463 | 0.00001631
242 | SouthTel Corp. | 0.0000461 | 0.00001624
243 | Valu-Line of Amarillo | 0.0000456 | 0.00001605
244 | TELECOM WEST | 0.0000441 | 0.00001554
245 | Sound Communication | 0.0000439 | 0.00001546
246 | DeltaCom Long Distance Services | 0.0000429 | 0.00001510
247 | Hi-Rim Communications | 0.0000428 | 0.00001506
248 | RSL COM U.S.A. | 0.0000421 | 0.00001484
249 | Olympic Telecommunications | 0.0000419 | 0.00001477
250 | Communication Cable Laying Co. | 0.0000404 | 0.00001421
251 | Atlantic Telephone Co. | 0.0000393 | 0.00001385
252 | Integrated Systems Corp. | 0.0000373 | 0.00001315
253 | FIRSTEL, INC | 0.0000371 | 0.00001308
254 | Access Services dba Pacific NW Telecom | 0.0000365 | 0.00001286
255 | Amerinet Communications | 0.0000348 | 0.00001227
256 | International Cellular | 0.0000348 | 0.00001227
257 | NYNEX | 0.0000315 | 0.00001109
258 | Coast to Coast Telecommunications | 0.0000293 | 0.00001032
259 | VarTec Telecom dba Clear Choice Communicat | 0.0000277 | 0.00000977
260 | CCC Communications Corp. (Z-TEL, Inc.) | 0.0000267 | 0.00000940
261 | International Telephone Corp. | 0.0000264 | 0.00000929
262 | Light Link Inc dba Taylor Comm. Grp. | 0.0000260 | 0.00000915
263 | R,D,&J Communications Mgmt. | 0.0000254 | 0.00000896
264 | Sprint Canada, Inc. | 0.0000242 | 0.00000852
265 | TEL-SPAN COMMUNICATIONS | 0.0000235 | 0.00000826
266 | DeltaCom, Inc. | 0.0000235 | 0.00000826
267 | BMG/TELEMANAGEMENT SYSTEMS (BMG) | 0.0000230 | 0.00000812
268 | Long Distance International | 0.0000221 | 0.00000779
269 | Eclipse Telecommunications | 0.0000221 | 0.00000779
270 | Telephone Assoc. dba Thief River Falls LD | 0.0000217 | 0.00000764
271 | Tel Serv | 0.0000215 | 0.00000757
272 | Roseville Telephone Co. | 0.0000210 | 0.00000738
273 | Valu-Line of Longview | 0.0000208 | 0.00000731
274 | Working Assets | 0.0000191 | 0.00000672
275 | Souris River Telecommunications | 0.0000188 | 0.00000661
276 | EGLOBE INC dba INTL.800 TELECOM dba TELECAL | 0.0000186 | 0.00000654
277 | Call America of Riverside | 0.0000184 | 0.00000646
278 | Independent Network Services | 0.0000173 | 0.00000610
279 | TSC Communications | 0.0000172 | 0.00000606
280 | Fone America | 0.0000172 | 0.00000606
281 | Primus | 0.0000165 | 0.00000580
282 | Commonwealth Telecom Services | 0.0000164 | 0.00000577
283 | WCS Operators | 0.0000163 | 0.00000573
284 | WinStar | 0.0000159 | 0.00000558
285 | Hertz Technologies | 0.0000156 | 0.00000551
286 | Iowa Network Services | 0.0000151 | 0.00000533
287 | A & N Telecom | 0.0000147 | 0.00000518
288 | Matrix Telecom | 0.0000146 | 0.00000514
289 | Fones West Digital Systems | 0.0000141 | 0.00000496
290 | Data & Electronic Services | 0.0000131 | 0.00000463
291 | Payline Systems | 0.0000119 | 0.00000419
292 | MIDCOM Communications | 0.0000109 | 0.00000386
293 | Nationwide Emergency Telecomm. System | 0.0000108 | 0.00000382
294 | GST Net | 0.0000107 | 0.00000378
295 | Hi-Plains NTS Communications | 0.0000103 | 0.00000364
296 | North County Communications Corp. | 0.0000100 | 0.00000353
297 | Intel Communications | 0.0000098 | 0.00000345
298 | Coast International | 0.0000095 | 0.00000334
299 | fONOROLA | 0.0000093 | 0.00000327
300 | ITC Networks | 0.0000091 | 0.00000320
301 | PDQ Communications Source | 0.0000086 | 0.00000301
302 | Teleport Communications Group | 0.0000084 | 0.00000298
303 | Value Tel | 0.0000080 | 0.00000283
304 | The Furst Group | 0.0000078 | 0.00000275
305 | NexGen 511 | 0.0000078 | 0.00000275
306 | Telephone Express | 0.0000074 | 0.00000261
307 | U S West Long Distance | 0.0000073 | 0.00000257
308 | AUC Communications | 0.0000072 | 0.00000253
309 | B.R. Communications | 0.0000072 | 0.00000253
310 | U.S. Fibercom | 0.0000066 | 0.00000231
311 | MetroLink | 0.0000065 | 0.00000228
312 | Budget Call Long Distance | 0.0000063 | 0.00000220
313 | DTG Communications | 0.0000059 | 0.00000209
314 | American Discount Telecommunications | 0.0000057 | 0.00000202
315 | U.S. Communications | 0.0000057 | 0.00000202
316 | CEO Telecommunications | 0.0000055 | 0.00000195
317 | NET-tel Corp. | 0.0000055 | 0.00000195
318 | USN Communications | 0.0000052 | 0.00000184
319 | EMI Communications Corp. | 0.0000051 | 0.00000180
320 | Pacific Gateway Exchange | 0.0000051 | 0.00000180
321 | Extelcom dba Express Tel | 0.0000050 | 0.00000176
322 | Premier Long Distance Svcs. | 0.0000049 | 0.00000173
323 | National Fibernet, Inc. | 0.0000049 | 0.00000173
324 | ADDTEL Communications (SA Tel) | 0.0000048 | 0.00000169
325 | Affiliated Telecom Svcs. | 0.0000045 | 0.00000158
326 | Comwest Communications | 0.0000045 | 0.00000158
327 | TTE OF CHARLESTON | 0.0000044 | 0.00000154
328 | CoreComm | 0.0000044 | 0.00000154
329 | Priority One Long Distance | 0.0000043 | 0.00000151
330 | Digital Network Services | 0.0000043 | 0.00000151
331 | Econ-A-Call Inc. of Hays | 0.0000043 | 0.00000151
332 | National Telephone Communications | 0.0000042 | 0.00000147
333 | Manitoba Telephone System | 0.0000041 | 0.00000143
334 | ALLTEL Communications, Inc. | 0.0000039 | 0.00000136
335 | AmeriVision Communications | 0.0000039 | 0.00000136
336 | Interstate Telecom Svcs. | 0.0000039 | 0.00000136
337 | SBS/MCI | 0.0000038 | 0.00000132
338 | Call Technology Corp. of Philadelphia | 0.0000035 | 0.00000125
339 | METRONET Long Distance Communications | 0.0000034 | 0.00000121
340 | Tel-One | 0.0000026 | 0.00000092
341 | Century Telecommunications | 0.0000025 | 0.00000088
342 | USP Communications | 0.0000025 | 0.00000088
343 | Fibernet Telecommunications | 0.0000024 | 0.00000084
344 | TelVue Corp. | 0.0000024 | 0.00000084
345 | Public Phone | 0.0000023 | 0.00000081
346 | Touch 1 Communications | 0.0000022 | 0.00000077
347 | Trinet | 0.0000022 | 0.00000077
348 | ILD Telecommunications | 0.0000020 | 0.00000070
349 | Global Tone Communications | 0.0000019 | 0.00000066
350 | HOTEL CONNECT | 0.0000019 | 0.00000066
351 | ONE-2-ONE Communications | 0.0000018 | 0.00000062
352 | United Telephone Co. dba TELAMERICA L.D. | 0.0000018 | 0.00000062
353 | Telco Holdings | 0.0000016 | 0.00000055
354 | Caribbean Telecommunications Consortium | 0.0000016 | 0.00000055
355 | Axces | 0.0000016 | 0.00000055
356 | Fiberline Network Communications | 0.0000016 | 0.00000055
357 | WorldCom dba Touch One Long Distance | 0.0000016 | 0.00000055
358 | Tel-Optic, Inc. dba Universal Network Services | 0.0000016 | 0.00000055
359 | MEANS Telcom | 0.0000016 | 0.00000055
360 | United Telephone Long Distance | 0.0000016 | 0.00000055
361 | LA CONEXION FAMILIAR, INC. | 0.0000014 | 0.00000048
362 | Economy Telephone | 0.0000014 | 0.00000048
363 | FiberNet Telemanagement | 0.0000013 | 0.00000044
364 | Telecom One | 0.0000011 | 0.00000040
365 | National Brands dba Sharenet Communications | 0.0000011 | 0.00000040
366 | Empire One Telecommunications | 0.0000011 | 0.00000040
367 | American Long Distance Corp. | 0.0000010 | 0.00000037
368 | T-NET (Cable & Wireless) | 0.0000010 | 0.00000037
369 | North American Telephone Network, Inc. | 0.0000010 | 0.00000037
370 | Advanced Telecommunications Network | 0.0000010 | 0.00000037
371 | Blue Mountain Cellular dba CellularOne | 0.0000010 | 0.00000037
372 | American Long Distance Exchange | 0.0000010 | 0.00000037
373 | SB Communications | 0.0000010 | 0.00000037
374 | MCI/1-800-COLLECT | 0.0000010 | 0.00000037
375 | Telec Inc. | 0.0000009 | 0.00000033
376 | LECNet, Inc. | 0.0000009 | 0.00000033
377 | L.D. Network, Inc. | 0.0000008 | 0.00000029
378 | Aliant Systems | 0.0000008 | 0.00000029
379 | EATELNET | 0.0000008 | 0.00000029
380 | Trans National Communications | 0.0000008 | 0.00000029
381 | Preferred Telecom | 0.0000008 | 0.00000029
382 | Star Tel of Abilene | 0.0000008 | 0.00000029
383 | First Data Resources, Inc. | 0.0000008 | 0.00000029
384 | Central Telephone Co. | 0.0000007 | 0.00000026
385 | INFO-TEL, Inc. | 0.0000007 | 0.00000026
386 | Commonwealth Telecom, Inc. | 0.0000007 | 0.00000026
387 | Phoenix Network | 0.0000007 | 0.00000026
388 | Vista Group International | 0.0000006 | 0.00000022
389 | VALU-LINE OF ANGLETON | 0.0000006 | 0.00000022
390 | Standard Long Distance | 0.0000006 | 0.00000022
391 | EqualNet Corp. | 0.0000005 | 0.00000018
392 | Farmers Long Distance | 0.0000005 | 0.00000018
393 | Select Communications | 0.0000005 | 0.00000018
394 | American Fiber Com | 0.0000005 | 0.00000018
395 | REAMS COMMUNICATIONS dba VALULINE | 0.0000005 | 0.00000018
396 | U.S. Republic Communications | 0.0000005 | 0.00000018
397 | The Switchboard | 0.0000005 | 0.00000018
398 | Regency Long Distance | 0.0000005 | 0.00000018
399 | Future Connect | 0.0000005 | 0.00000018
400 | Xtracom | 0.0000005 | 0.00000018
401 | TresCom Puerto Rico | 0.0000005 | 0.00000018
402 | U.S. Net | 0.0000004 | 0.00000015
403 | Thrifty Call | 0.0000004 | 0.00000015
404 | KDD America, Inc. | 0.0000004 | 0.00000015
405 | ARC Networks | 0.0000004 | 0.00000015
406 | Interstate Operators | 0.0000004 | 0.00000015
407 | J B Operators | 0.0000004 | 0.00000015
408 | Metro One Telecommunications | 0.0000004 | 0.00000015
409 | Comtel Tech | 0.0000004 | 0.00000015
410 | Telephone Support Systems | 0.0000004 | 0.00000015
411 | Century Communications | 0.0000004 | 0.00000015
412 | Group Long Distance | 0.0000004 | 0.00000015
413 | Call America | 0.0000004 | 0.00000015
414 | BC Tel | 0.0000004 | 0.00000015
415 | The Phone Co. | 0.0000003 | 0.00000011
416 | Century Long Distance | 0.0000003 | 0.00000011
417 | STARTEC | 0.0000003 | 0.00000011
418 | Friendship Long Distance | 0.0000003 | 0.00000011
419 | National Fiber Com | 0.0000003 | 0.00000011
420 | Associated Network Partners | 0.0000003 | 0.00000011
421 | Northern Arizona Communications Corp. | 0.0000003 | 0.00000011
422 | Northwest Telecom | 0.0000003 | 0.00000011
423 | Progressive National Telephone Co. | 0.0000003 | 0.00000011
424 | World Wide Connect | 0.0000003 | 0.00000011
425 | Digital Communications | 0.0000003 | 0.00000011
426 | Gala Communications | 0.0000003 | 0.00000011
427 | TeleHub Communications Corp. | 0.0000003 | 0.00000011
428 | Fastline Communication Network | 0.0000003 | 0.00000011
429 | West River Long Distance | 0.0000003 | 0.00000011
430 | Cable & Wireless (TDX) | 0.0000003 | 0.00000011
431 | Fibernet, Inc. | 0.0000003 | 0.00000011
432 | Incomnet Communications Corp. | 0.0000002 | 0.00000007
433 | Tel-Share | 0.0000002 | 0.00000007
434 | Coastal Long Distance Services | 0.0000002 | 0.00000007
435 | Colorado River Communications | 0.0000002 | 0.00000007
436 | TMC Long Distance dba Cherry Communications | 0.0000002 | 0.00000007
437 | Nationwide Long Distance | 0.0000002 | 0.00000007
438 | Heritage Communications | 0.0000002 | 0.00000007
439 | Savemore Network | 0.0000002 | 0.00000007
440 | OPTICOM ONE CALL | 0.0000002 | 0.00000007
441 | Alascom | 0.0000002 | 0.00000007
442 | BKC Telecommunications | 0.0000002 | 0.00000007
443 | Network Billing & Collection | 0.0000002 | 0.00000007
444 | Vortel Communications | 0.0000002 | 0.00000007
445 | Rainier Cable | 0.0000002 | 0.00000007
446 | St. Pierre Communication Network | 0.0000002 | 0.00000007
447 | PNG Telecomms. dba PowerNet Global Commu | 0.0000002 | 0.00000007
448 | BellSouth Long Distance | 0.0000002 | 0.00000007
449 | Americatel | 0.0000002 | 0.00000007
450 | Basico Group | 0.0000002 | 0.00000007
451 | United Communications Assn., Inc. | 0.0000002 | 0.00000007
452 | Telamerica Communications | 0.0000001 | 0.00000004
453 | Cellnet | 0.0000001 | 0.00000004
454 | CapRock Telemanagement | 0.0000001 | 0.00000004
455 | Advanced Telecom, Inc. | 0.0000001 | 0.00000004
456 | US TeleServices | 0.0000001 | 0.00000004
457 | Execulines of North Central Region | 0.0000001 | 0.00000004
458 | National Telephone Exchange (PA) | 0.0000001 | 0.00000004
459 | SouthWest United Communication | 0.0000001 | 0.00000004
460 | National Tele-Sav Inc. | 0.0000001 | 0.00000004
461 | Discount Long Distance of America | 0.0000001 | 0.00000004
462 | Sprint Local Telecommunications Division | 0.0000001 | 0.00000004
463 | Sam's Discount Long Distance | 0.0000001 | 0.00000004
464 | Scherers Communications Group | 0.0000001 | 0.00000004
465 | BT North America | 0.0000001 | 0.00000004
466 | Mountainview Communications | 0.0000001 | 0.00000004
467 | TELCO | 0.0000001 | 0.00000004
468 | OCOM Long Distance | 0.0000001 | 0.00000004
469 | STANDARD TELCOM | 0.0000001 | 0.00000004
470 | OmniCall | 0.0000001 | 0.00000004
471 | RANGER TELECOMMUNICATIONS | 0.0000001 | 0.00000004
472 | Long Distance Assistance | 0.0000001 | 0.00000004
473 | Roanoke & Botetourt Telephone Co. | 0.0000001 | 0.00000004
474 | Fairview Telecom | 0.0000001 | 0.00000004
475 | Bluegrass Long Distance | 0.0000001 | 0.00000004
476 | Valu-Line of St. Joseph | 0.0000001 | 0.00000004
477 | Telelink | 0.0000001 | 0.00000004
478 | TeleCable Corp. | 0.0000001 | 0.00000004
479 | Federal TransTel, Inc. (FTT) | 0.0000001 | 0.00000004
480 | UI Long Distance | 0.0000001 | 0.00000004
481 | Texustel | 0.0000001 | 0.00000004
482 | Continental Long Distance | 0.0000001 | 0.00000004
483 | Marathon Communications | 0.0000001 | 0.00000004
484 | Pioneer Telecom | 0.0000001 | 0.00000004
485 | Starcom International Optics Corp. | 0.0000001 | 0.00000004
486 | TeleData International | 0.0000001 | 0.00000004
487 | ZEPTEL | 0.0000001 | 0.00000004
488 | SouthEast Telephone, LTD. | 0.0000001 | 0.00000004
489 | TRT Telecommunications Corp. | 0.0000001 | 0.00000004
490 | Access-Plus | 0.0000001 | 0.00000004
491 | Apple Communications | 0.0000001 | 0.00000004
492 | Allgood Taylor Telephone | 0.0000001 | 0.00000004
493 | Guide Network International | 0.0000001 | 0.00000004
494 | Xnet, Inc. | 0.0000001 | 0.00000004
495 | LDI Solutions | 0.0000001 | 0.00000004
496 | Teleglobe USA | 0.0000001 | 0.00000004
497 | Caribsat Telecommunications | 0.0000001 | 0.00000004
498 | Innovative Telecom | 0.0000001 | 0.00000004
499 | Bethany Telecom | 0.0000001 | 0.00000004
500 | Westel Telecommunications, Ltd. | 0.0000001 | 0.00000004
501 | Cincinnati Bell Telephone | 0.0000001 | 0.00000004
502 | World Access Communications Corp.(WACC) | 0.0000001 | 0.00000004
503 | BELL SOUTH BUSINESS SYSTEMS | 0.0000001 | 0.00000004

27. In Appendix B, the Commission identified the payors and designated the monthly per-payphone compensation amounts for the Intermediate Period, beginning October 7, 1997, through April 20, 1999.

Appendix B.—Intermediate Period Allocation List
No. | Name | Percentage | Amount
1 | AT&T Communications | 35.24391644 | $12.41431713
2 | MCI | 23.61161155 | 8.31695405
3 | WorldCom | 12.96694860 | 4.56747797
4 | Sprint | 12.51899810 | 4.40969189
5 | Frontier Communications Services | 3.92149599 | 1.38130775
6 | LCI International | 2.37673530 | 0.83718124
7 | ILEC 2.19% | 2.19000001 | 0.77140560
8 | Cable & Wireless | 0.97917273 | 0.34490380
9 | Switched Service Communications | 0.49097550 | 0.17294121
10 | Global Crossing Telecommunications | 0.42983911 | 0.15140653
11 | U.S Long Distance | 0.42561847 | 0.14991985
12 | LCI | 0.33335911 | 0.11742241
13 | Telco Communications Group dba Dial & Save | 0.31307165 | 0.11027636
14 | PT-1 Communications | 0.25384298 | 0.08941365
15 | Business Telecom, Inc (BTI) | 0.23496687 | 0.08276473
16 | Long Distance Savers | 0.21586112 | 0.07603492
17 | Qwest | 0.20372964 | 0.07176173
18 | IXC Communication Services | 0.19060904 | 0.06714013
19 | Teltrust | 0.18761125 | 0.06608419
20 | One Call Communications | 0.14547001 | 0.05124036
21 | EconoPhone | 0.14188411 | 0.04997726
22 | ATX Telecommunications Services | 0.12896413 | 0.04542633
23 | WorldXChange | 0.10813630 | 0.03808993
24 | Tel America | 0.10673413 | 0.03759603
25 | American Network Exchange (AMNEX) | 0.10326189 | 0.03637297
26 | Bell Atlantic Communications | 0.09986097 | 0.03517503
27 | American Telco | 0.08260508 | 0.02909681
28 | US Long Distance | 0.08048481 | 0.02834997
29 | Total-Tel USA | 0.07600848 | 0.02677323
30 | Cincinnati Bell Long Distance | 0.06237390 | 0.02197058
31 | WesTel | 0.06191358 | 0.02180844
32 | DeltaCom L.D.S | 0.06105990 | 0.02150774
33 | Consolidated Network | 0.05901859 | 0.02078871
34 | OCI | 0.05889480 | 0.02074511
35 | Broadwing Communications Services Inc | 0.05419353 | 0.01908913
36 | Network Operator Services | 0.05175470 | 0.01823007
37 | NETECH Comm (US West) | 0.05022277 | 0.01769047
38 | Pac-West Telecomm dba AmeriCall | 0.04830760 | 0.01701587
39 | Tandem Access for Database Query | 0.04718756 | 0.01662135
40 | GTE Communications Corp | 0.04716124 | 0.01661208
41 | Frontier Communications of the Great Lakes | 0.04687323 | 0.01651063
42 | NYNEX—Corridor | 0.04680553 | 0.01648678
43 | McLeodUSA | 0.04342555 | 0.01529621
44 | LONG DISTANCE OF MICHIGAN | 0.04219019 | 0.01486107
45 | The CommuniGroup Of KC | 0.04049647 | 0.01426448
46 | Telecom*USA (MCI) | 0.03835522 | 0.01351024
47 | ACC Long Distance Corp | 0.02988201 | 0.01052564
48 | Network Plus | 0.02915011 | 0.01026784
49 | Brooks Fiber Communications | 0.02861186 | 0.01007824
50 | U.S WATS | 0.02782831 | 0.00980224
51 | American Long Lines | 0.02735606 | 0.00963590
52 | Access Long Distance | 0.02553887 | 0.00899581
53 | Eclipse Communications | 0.02337135 | 0.00823232
54 | VarTec Telecom | 0.02292436 | 0.00807488
55 | One Star Long Distance | 0.02237160 | 0.00788017
56 | American Telecommunications Enterprises | 0.02223350 | 0.00783153
57 | Long Distance/USA (Sprint) | 0.02133906 | 0.00751647
58 | T-NETIX, Inc | 0.02082489 | 0.00733536
59 | Nationwide Communications | 0.02071495 | 0.00729663
60 | Intercontinental Communications Group (ICG) | 0.02005349 | 0.00706364
61 | Westinghouse Electric Corp | 0.01984365 | 0.00698973
62 | Capital Telecommunications | 0.01917389 | 0.00675381
63 | NATIONAL Telecom of Florida | 0.01833703 | 0.00645903
64 | GST Call America | 0.01707555 | 0.00601469
65 | Feist Long Distance | 0.01695584 | 0.00597252
66 | Frontier Communications-North Central Region | 0.01678545 | 0.00591251
67 | Intermedia Communications | 0.01676333 | 0.00590472
68 | WorldCom Technologies | 0.01625195 | 0.00572459
69 | Cooperative Communications | 0.01598441 | 0.00563035
70 | Chadwick Telephone | 0.01517026 | 0.00534357
71 | ATI Telecom | 0.01515622 | 0.00533863
72 | BN1 Telecommunications | 0.01429701 | 0.00503598
73 | Shared Communications Services | 0.01403492 | 0.00494366
74 | Long Distance Management | 0.01364685 | 0.00480697
75 | Valu-Line of Kansas | 0.01352852 | 0.00476528
76 | ConQuest | 0.01224107 | 0.00431179
77 | ICON Communications Corp | 0.01171125 | 0.00412517
78 | Long Distance International | 0.01170991 | 0.00412470
79 | South Carolina Network | 0.01122426 | 0.00395363
80 | Frontier Communications Int'l, Inc | 0.00998360 | 0.00351662
81 | Eastern Telephone Systems | 0.00966809 | 0.00340549
82 | Electric Lightwave | 0.00948198 | 0.00333993
83 | North American Communications | 0.00927736 | 0.00326786
84 | Telemanagement Consultants Corp | 0.00921237 | 0.00324496
85 | I-Link Communications | 0.00892608 | 0.00314412
86 | Action Telcom Co | 0.00888023 | 0.00312797
87 | Citizens Telecom | 0.00857354 | 0.00301995
88 | Deluxe Data Systems | 0.00841646 | 0.00296461
89 | Hedges & Associates | 0.00834872 | 0.00294075
90 | PSP Marketing Group | 0.00826651 | 0.00291180
91 | Cleartel Communications | 0.00788966 | 0.00277905
92 | Telebeam | 0.00769037 | 0.00270885
93 | Long Distance Discount | 0.00734681 | 0.00258784
94 | Touch America, Inc | 0.00694462 | 0.00244617
95 | Cellnet | 0.00654483 | 0.00230535
96 | US Link Long Distance | 0.00626399 | 0.00220643
97 | XO Communications | 0.00608506 | 0.00214340
98 | West Coast Telecommunications | 0.00578794 | 0.00203875
99 | LCC | 0.00517270 | 0.00182203
100 | The CommuniGroup | 0.00471144 | 0.00165956
101 | Austin Bestline | 0.00470626 | 0.00165773
102 | CapRock Telemanagement | 0.00465249 | 0.00163879
103 | Ameritel | 0.00463064 | 0.00163110
104 | FOX COMMUNICATIONS CORP | 0.00449544 | 0.00158347
105 | IDT Corp | 0.00441009 | 0.00155341
106 | Switch 2000 | 0.00438008 | 0.00154284
107 | MRC Telecommunications | 0.00423041 | 0.00149012
108 | IDS Long Distance | 0.00415224 | 0.00146258
109 | VarTec Telecom dba Clear Choice Communications | 0.00408850 | 0.00144013
110 | General Communication | 0.00383755 | 0.00135174
111 | Global Crossing Telemanagement | 0.00370561 | 0.00130526
112 | Excel Telecommunications | 0.00369988 | 0.00130325
113 | Amerinet Communications | 0.00360841 | 0.00127103
114 | US COMMUNICATIONS, INC | 0.00350306 | 0.00123392
115 | GTS Global Link | 0.00343038 | 0.00120832
116 | US WATS | 0.00316367 | 0.00111437
117 | Call America Business Comm Corp | 0.00311844 | 0.00109844
118 | Americatel | 0.00300132 | 0.00105719
119 | Coast to Coast Telecommunications | 0.00289923 | 0.00102122
120 | Iowa Communications Network | 0.00280372 | 0.00098758
121 | Capital Network Systems (AMNEX) | 0.00277552 | 0.00097765
122 | TCG | 0.00275516 | 0.00097048
123 | Coastal Telephone Co. | 0.00274736 | 0.00096773
124 | MVP Communications | 0.00265973 | 0.00093686
125 | Communications Options | 0.00250057 | 0.00088080
126 | Norlight Telecommunications | 0.00243746 | 0.00085857
127 | TresCom U.S.A. | 0.00232207 | 0.00081792
128 | Digital Network, Inc. | 0.00223911 | 0.00078870
129 | Off Campus Telecommunications | 0.00222471 | 0.00078363
130 | GST Telecom | 0.00218679 | 0.00077027
131 | Connect America Communications | 0.00217267 | 0.00076530
132 | KTNT Communications | 0.00203546 | 0.00071697
133 | United Telephone Co. | 0.00201083 | 0.00070830
134 | ATLANTIC CELL | 0.00198526 | 0.00069929
135 | United Communications | 0.00196949 | 0.00069373
136 | IBM (Advantis) | 0.00194129 | 0.00068380
137 | Concord Telephone Long Distance | 0.00189395 | 0.00066712
138 | PhoneTel Technologies | 0.00186928 | 0.00065843
139 | Eastern Telecom dba InterQuest | 0.00179777 | 0.00063325
140 | Ionex Telecommunications | 0.00165422 | 0.00058268
141 | Cypress Telecommunications Corp. (Cytel) | 0.00162880 | 0.00057373
142 | KLP, Inc. dba Call-America | 0.00161107 | 0.00056748
143 | FRESH START COMMUNICATIONS | 0.00157899 | 0.00055618
144 | Parkway Communications | 0.00156769 | 0.00055220
145 | SP Telecom | 0.00146132 | 0.00051474
146 | Mon-Cre Long Distance | 0.00144332 | 0.00050839
147 | Sunshine Telephone Inc. dba SUNTEL | 0.00140869 | 0.00049620
148 | TELUS Communications (Edmonton) | 0.00137327 | 0.00048372
149 | CCC GlobalCom Corp. | 0.00136758 | 0.00048172
150 | TGEC Communications | 0.00128349 | 0.00045210
151 | CTS Telcom of Florida | 0.00123434 | 0.00043478
152 | POPP Telcom | 0.00123242 | 0.00043411
153 | Midco Communications | 0.00118147 | 0.00041616
154 | EMI Communications Corp. | 0.00116688 | 0.00041102
155 | Coast International | 0.00103921 | 0.00036605
156 | WATS/800 | 0.00103913 | 0.00036602
157 | Valu-Line of Longview | 0.00101234 | 0.00035659
158 | American Tel Group | 0.00100932 | 0.00035552
159 | Arcada Communications | 0.00099292 | 0.00034975
160 | Athena International | 0.00095229 | 0.00033543
161 | Interlink Telecommunications | 0.00092801 | 0.00032688
162 | CEO TELECOMM (STAR TELECOMM INC) | 0.00090459 | 0.00031863
163 | Broadwing Telecommunications Inc. | 0.00087624 | 0.00030865
164 | T-One Communications | 0.00086753 | 0.00030558
165 | Fibernet Telecommunications | 0.00084713 | 0.00029839
166 | First Financial Management Corp. | 0.00084148 | 0.00029640
167 | U.S. Connect Corp. | 0.00081999 | 0.00028883
168 | Western Telecom, Inc. | 0.00080014 | 0.00028184
169 | Connect Americom Corp. | 0.00078634 | 0.00027698
170 | Telescan | 0.00077979 | 0.00027467
171 | Digital Technologies | 0.00077638 | 0.00027347
172 | SouthTel Corp. | 0.00077410 | 0.00027267
173 | Keystone Telecom | 0.00069907 | 0.00024624
174 | Euronet Communications Corp. | 0.00067698 | 0.00023846
175 | WestCom Inc. (Western Telecom, Inc.) | 0.00067687 | 0.00023842
176 | Americall Communications | 0.00066004 | 0.00023249
177 | C-COM | 0.00064098 | 0.00022578
178 | Convergent Communications | 0.00063941 | 0.00022523
179 | Ameritech | 0.00063117 | 0.00022232
180 | TRESCOM | 0.00060717 | 0.00021387
181 | Autumn Communications | 0.00059317 | 0.00020894
182 | Shoreham Telephone | 0.00058603 | 0.00020642
183 | TransNet | 0.00057438 | 0.00020232
184 | AT&T Global Network Services (AGNS) | 0.00056967 | 0.00020066
185 | Star Tel, Inc. | 0.00056830 | 0.00020018
186 | U.S. Link | 0.00054633 | 0.00019244
187 | Dancris Comm. | 0.00054320 | 0.00019134
188 | ATLANTIC CONNECTIONS | 0.00052002 | 0.00018317
189 | Kelhorn Comm Inc. | 0.00050750 | 0.00017876
190 | US Comm. Inc. dba SOUTHWEST L.D.N. | 0.00050566 | 0.00017811
191 | STAR TELECOM/ALLSTAR | 0.00048154 | 0.00016962
192 | Alternate Communications Technology | 0.00047511 | 0.00016735
193 | Logix Communications | 0.00045773 | 0.00016123
194 | Long Distance Wholesale Club (Excel) | 0.00044612 | 0.00015714
195 | Econo. Call Long Distance Services | 0.00043271 | 0.00015242
196 | Powercom Corp. | 0.00042537 | 0.00014983
197 | Dial-Net, Inc. | 0.00040497 | 0.00014265
198 | XTEL | 0.00040043 | 0.00014105
199 | AT&T EasyLink Services | 0.00037344 | 0.00013154
200 | Baystar Satellite Paging | 0.00034720 | 0.00012230
201 | North American Telephone | 0.00033359 | 0.00011750
202 | Yavapai Telephone Exchange | 0.00032767 | 0.00011542
203 | Integrated Systems Corp. | 0.00032747 | 0.00011535
204 | JSM Tele-Page | 0.00032676 | 0.00011510
205 | Payline Systems | 0.00032351 | 0.00011395
206 | TelaMarketing Communications | 0.00031512 | 0.00011100
207 | Valuline Long Distance | 0.00029570 | 0.00010416
208 | Midcom of Arizona, Inc | 0.00028833 | 0.00010156
209 | Citizens Communications | 0.00028589 | 0.00010070
210 | Operator Service Co. | 0.00028366 | 0.00009992
211 | Call America | 0.00027527 | 0.00009696
212 | Uni-Tel of Farmington | 0.00025985 | 0.00009153
213 | Telco Holdings | 0.00025911 | 0.00009127
214 | Union Telephone Co. | 0.00025279 | 0.00008904
215 | First Communications | 0.00024095 | 0.00008487
216 | Telehop Communications | 0.00022149 | 0.00007802
217 | Cherry Communications | 0.00021977 | 0.00007741
218 | Tele-Sys., Inc. | 0.00018517 | 0.00006522
219 | American Telesource International | 0.00017886 | 0.00006300
220 | Commonwealth Telecom Services | 0.00017156 | 0.00006043
221 | Intl.800 Telecom dba Telecall Long Dist. (EGLOBE) | 0.00016776 | 0.00005909
222 | R,D,&J Communications Mgmt. | 0.00015442 | 0.00005439
223 | Telecommunications Service Center | 0.00014881 | 0.00005242
224 | TEL-SPAN COMMUNICATIONS | 0.00014720 | 0.00005185
225 | NACT | 0.00014709 | 0.00005181
226 | American Express Travel Related Services | 0.00014661 | 0.00005164
227 | Gulf Long Distance | 0.00014575 | 0.00005134
228 | IntelCom Group | 0.00013991 | 0.00004928
229 | USLink Long Distance | 0.00013391 | 0.00004717
230 | ECI Communications | 0.00012794 | 0.00004507
231 | DeltaCom Long Distance Services | 0.00012559 | 0.00004424
232 | ComCentral dba Southnet Services | 0.00012355 | 0.00004352
233 | Brooke Telecom Co-operative | 0.00012210 | 0.00004301
234 | TresCom U.S.A., Inc./TresCom Caribbean | 0.00012045 | 0.00004243
235 | DeltaCom, Inc. | 0.00011053 | 0.00003893
236 | Telephone Assoc. Long Distance Svcs. | 0.00010523 | 0.00003707
237 | TSC Communications | 0.00010488 | 0.00003694
238 | QCC, Inc. | 0.00010276 | 0.00003620
239 | Independence Telephone Co. | 0.00010029 | 0.00003533
240 | Citilink of UT | 0.00009598 | 0.00003381
241 | Home Owners L.D. dba HOLD Billing Svcs. | 0.00009225 | 0.00003249
242 | Tele Tech | 0.00008876 | 0.00003127
243 | Systems 1000 | 0.00008186 | 0.00002883
244 | ALLTEL Communications, Inc. | 0.00008080 | 0.00002846
245 | Oncor Communications | 0.00007911 | 0.00002787
246 | Americom Communications | 0.00007739 | 0.00002726
247 | Eclipse Telecommunications | 0.00007597 | 0.00002676
248 | NTS Communications | 0.00007499 | 0.00002642
249 | TXU Communications | 0.00007323 | 0.00002579
250 | L.D. Services | 0.00007001 | 0.00002466
251 | PSA, Inc. | 0.00006915 | 0.00002436
252 | International Cellular | 0.00006735 | 0.00002372
253 | Capsule Communications | 0.00006440 | 0.00002269
254 | Execulines of Sacramento | 0.00006425 | 0.00002263
255 | ARCADA | 0.00006366 | 0.00002242
256 | Caribbean Telecommunications Consortium | 0.00006240 | 0.00002198
257 | Olympic Telecommunications | 0.00006013 | 0.00002118
258 | Global Crossing Bandwidth | 0.00005907 | 0.00002081
259 | ABC Telecom | 0.00005707 | 0.00002010
260 | MIDCOM Communications | 0.00005570 | 0.00001962
261 | Long Distance Telephone Savers | 0.00005472 | 0.00001927
262 | Business Discount Plan dba LD Discount Plan | 0.00005236 | 0.00001844
263 | International Telephone Corp. | 0.00004773 | 0.00001681
264 | NTI | 0.00004722 | 0.00001663
265 | Iowa Network Services | 0.00004648 | 0.00001637
266 | TCA Long Distance | 0.00004632 | 0.00001632
267 | Premier Long Distance Svcs. | 0.00004617 | 0.00001626
268 | Time Warner | 0.00004613 | 0.00001625
269 | Communication Cable Laying Co. | 0.00004338 | 0.00001528
270 | Tel Serv | 0.00004283 | 0.00001509
271 | Intel Communications | 0.00003989 | 0.00001405
272 | Axces | 0.00003605 | 0.00001270
273 | Lucky Dog Phone Co. | 0.00003585 | 0.00001263
274 | Manitoba Telephone System | 0.00003514 | 0.00001238
275 | Telephone Communications Corp. | 0.00003357 | 0.00001183
276 | Atlantic Telephone Co. | 0.00003322 | 0.00001170
277 | TTI Telecommunications | 0.00003267 | 0.00001151
278 | Fone America | 0.00003020 | 0.00001064
279 | Data & Electronic Services | 0.00002938 | 0.00001035
280 | Light Link Inc dba Taylor Comm. Grp. | 0.00002851 | 0.00001004
281 | NYNEX | 0.00002793 | 0.00000984
282 | RCC Network | 0.00002632 | 0.00000927
283 | NET-tel Corp. | 0.00002440 | 0.00000859
284 | Incomnet Communications Corp. | 0.00002220 | 0.00000782
285 | ITC Networks | 0.00002208 | 0.00000778
286 | GST Net | 0.00002185 | 0.00000770
287 | AMERICAN TELECOMMUNICATIONS HOLDING | 0.00002126 | 0.00000749
288 | Matrix Telecom | 0.00002020 | 0.00000712
289 | Show-Me Long Distance | 0.00002008 | 0.00000707
290 | Working Assets | 0.00001847 | 0.00000651
291 | T-NET (Cable & Wireless) | 0.00001800 | 0.00000634
292 | NTS Communications/GMW Co. | 0.00001765 | 0.00000622
293 | Asia International Services Corp. | 0.00001757 | 0.00000619
294 | Touch 1 Communications | 0.00001679 | 0.00000591
295 | TELECOM WEST | 0.00001632 | 0.00000575
296 | Teleport Communications Group | 0.00001455 | 0.00000513
297 | MetroLink | 0.00001432 | 0.00000504
298 | fONOROLA | 0.00001424 | 0.00000502
299 | AUC Communications | 0.00001408 | 0.00000496
300 | WinStar | 0.00001396 | 0.00000492
301 | Call America of Riverside | 0.00001369 | 0.00000482
302 | Sprint Canada, Inc. | 0.00001357 | 0.00000478
303 | LA CONEXION FAMILIAR, INC. | 0.00001334 | 0.00000470
304 | EqualNet Corp. | 0.00001294 | 0.00000456
305 | BMG/TELEMANAGEMENT SYSTEMS (BMG) | 0.00001294 | 0.00000456
306 | MID ATLANTIC TELECOM | 0.00001267 | 0.00000446
307 | National Network Corp. | 0.00001181 | 0.00000416
308 | Primus (Primus Telecommunications) | 0.00001134 | 0.00000399
309 | Hi-Rim Communications | 0.00001106 | 0.00000390
310 | Independent Network Services | 0.00001083 | 0.00000381
311 | The Phone Co. | 0.00001059 | 0.00000373
312 | Century Telecommunications | 0.00001059 | 0.00000373
313 | Roseville Telephone Co. | 0.00001047 | 0.00000369
314 | Tel-Share | 0.00000992 | 0.00000350
315 | AmeriVision Communications | 0.00000992 | 0.00000350
316 | Call Savers | 0.00000988 | 0.00000348
317 | Valu-Line of Amarillo | 0.00000981 | 0.00000345
318 | AT&T Canada Long Distance Services Co. | 0.00000969 | 0.00000341
319 | TTE OF CHARLESTON | 0.00000969 | 0.00000341
320 | Telec Inc. | 0.00000965 | 0.00000340
321 | Coastal Long Distance Services | 0.00000957 | 0.00000337
322 | A & N Telecom | 0.00000906 | 0.00000319
323 | PDQ Communications Source | 0.00000879 | 0.00000309
324 | Hi-Plains NTS Communications | 0.00000843 | 0.00000297
325 | EGLOBE INC dba INTL.800 TELECOM dba TELECAL | 0.00000843 | 0.00000297
326 | ADDTEL Communications (SA Tel) | 0.00000765 | 0.00000269
327 | DTG Communications | 0.00000741 | 0.00000261
328 | Access Services dba Pacific NW Telecom | 0.00000741 | 0.00000261
329 | Uni Dial | 0.00000722 | 0.00000254
330 | Questar InfoComm | 0.00000710 | 0.00000250
331 | Century Long Distance | 0.00000706 | 0.00000249
332 | Southwestern Bell Telephone | 0.00000686 | 0.00000242
333 | Pacific Bell Interactive Media | 0.00000675 | 0.00000238
334 | Nationwide Emergency Telecomm. System | 0.00000655 | 0.00000231
335 | GCI Globalcom | 0.00000635 | 0.00000224
336 | Priority One Long Distance | 0.00000588 | 0.00000207
337 | North County Communications Corp. | 0.00000577 | 0.00000203
338 | Souris River Telecommunications | 0.00000577 | 0.00000203
339 | National Telephone Communications | 0.00000569 | 0.00000200
340 | RSL COM U.S.A. | 0.00000569 | 0.00000200
341 | North American Telephone Network, Inc. | 0.00000561 | 0.00000198
342 | USN Communications | 0.00000549 | 0.00000193
343 | Extelcom dba Express Tel | 0.00000541 | 0.00000191
344 | Telecom Affiliates | 0.00000530 | 0.00000187
345 | Advanced Telecommunications Network | 0.00000530 | 0.00000187
346 | Global Tone Communications | 0.00000522 | 0.00000184
347 | US TeleServices | 0.00000510 | 0.00000180
348 | CCC Communications Corp. (Z-TEL, Inc.) | 0.00000510 | 0.00000180
349 | CoreComm | 0.00000486 | 0.00000171
350 | Westcom Long Distance | 0.00000486 | 0.00000171
351 | L.D. Network, Inc. | 0.00000467 | 0.00000164
352 | FiberNet Telemanagement | 0.00000443 | 0.00000156
353 | Alternative Long Distance dba Money Savers | 0.00000392 | 0.00000138
354 | Dial Long Distance Billing Svcs. | 0.00000388 | 0.00000137
355 | Interstate Telecom Svcs. | 0.00000377 | 0.00000133
356 | MCI/1-800-COLLECT | 0.00000373 | 0.00000131
357 | Call Technology Corp. of Philadelphia | 0.00000365 | 0.00000128
358 | National Fibernet, Inc. | 0.00000357 | 0.00000126
359 | Nuestra Telefonica | 0.00000353 | 0.00000124
360 | Fiberline Network Communications | 0.00000341 | 0.00000120
361 | Affiliated Telecom Svcs. | 0.00000341 | 0.00000120
362 | WCS Operators | 0.00000322 | 0.00000113
363 | Microvoice Applications | 0.00000322 | 0.00000113
364 | orldCom dba Touch One Long Distance | 0.00000318 | 0.00000112
365 | B.R. Communications | 0.00000310 | 0.00000109
366 | Public Phone | 0.00000298 | 0.00000105
367 | American Discount Telecommunications | 0.00000294 | 0.00000104
368 | Budget Call Long Distance | 0.00000294 | 0.00000104
369 | SBS/MCI | 0.00000290 | 0.00000102
370 | U.S. Net | 0.00000286 | 0.00000101
371 | Thrifty Call | 0.00000282 | 0.00000099
372 | Farmers Long Distance | 0.00000278 | 0.00000098
373 | KRB Telecom | 0.00000275 | 0.00000097
374 | Fones West Digital Systems | 0.00000267 | 0.00000094
375 | Hertz Technologies | 0.00000263 | 0.00000093
376 | Vista Group International | 0.00000255 | 0.00000090
377 | Digital Network Services | 0.00000255 | 0.00000090
378 | U.S. Fibercom | 0.00000255 | 0.00000090
379 | Aliant Systems | 0.00000243 | 0.00000086
380 | CellToll Corp. | 0.00000239 | 0.00000084
381 | METRONET Long Distance Communications | 0.00000227 | 0.00000080
382 | EATELNET | 0.00000204 | 0.00000072
383 | United Telephone Long Distance | 0.00000196 | 0.00000069
384 | Trinet | 0.00000192 | 0.00000068
385 | ProCom, Inc. | 0.00000192 | 0.00000068
386 | Tel-One | 0.00000188 | 0.00000066
387 | Escondido Telephone Co. | 0.00000188 | 0.00000066
388 | HOTEL CONNECT | 0.00000184 | 0.00000065
389 | International Telecommunication Corp. | 0.00000180 | 0.00000064
390 | America One Communications | 0.00000165 | 0.00000058
391 | Tel-Optic, Inc. dba Universal Network Services | 0.00000153 | 0.00000054
392 | Pacific Bell Communications | 0.00000153 | 0.00000054
393 | U.S. Communications | 0.00000149 | 0.00000053
394 | The Furst Group | 0.00000141 | 0.00000050
395 | Easton Telecom Services | 0.00000133 | 0.00000047
396 | NTS/HI-PLAINS/MIDCOM AZ | 0.00000129 | 0.00000046
397 | Telecom One | 0.00000126 | 0.00000044
398 | U S West Long Distance | 0.00000126 | 0.00000044
399 | Voice Technology Corp | 0.00000122 | 0.00000043
400 | Comwest Communications | 0.00000110 | 0.00000039
401 | Telephone Assoc. dba Thief River Falls LD | 0.00000110 | 0.00000039
402 | Horry Telephone Long Distance | 0.00000110 | 0.00000039
403 | INFO-TEL COMMUNICATIONS | 0.00000106 | 0.00000037
404 | BC Tel | 0.00000102 | 0.00000036
405 | ONE-2-ONE Communications | 0.00000102 | 0.00000036
406 | Pacific Gateway Exchange | 0.00000102 | 0.00000036
407 | Long Distance Network | 0.00000102 | 0.00000036
408 | Motorola Inc. | 0.00000102 | 0.00000036
409 | Star Telecommunications | 0.00000102 | 0.00000036
410 | National Telephone Exchange (PA) | 0.00000098 | 0.00000035
411 | Economy Telephone | 0.00000094 | 0.00000033
412 | North State Telephone Long Distance Co. | 0.00000094 | 0.00000033
413 | National Tele-Sav Inc. | 0.00000090 | 0.00000032
414 | SouthWest United Communication | 0.00000090 | 0.00000032
415 | Central Telephone Co. | 0.00000090 | 0.00000032
416 | American Long Distance Corp. | 0.00000090 | 0.00000032
417 | Phoenix Network | 0.00000086 | 0.00000030
418 | First Data Resources, Inc. | 0.00000086 | 0.00000030
419 | Trans National Communications | 0.00000082 | 0.00000029
420 | United Telephone Co. dba TELAMERICA L.D. | 0.00000082 | 0.00000029
421 | Telaplex Long Distance | 0.00000082 | 0.00000029
422 | National Brands dba Sharenet Communications | 0.00000078 | 0.00000028
423 | People's Telephone | 0.00000078 | 0.00000028
424 | LECNet, Inc. | 0.00000075 | 0.00000026
425 | NOS Communications | 0.00000075 | 0.00000026
426 | Empire One Telecommunications | 0.00000067 | 0.00000023
427 | United States Cellular | 0.00000067 | 0.00000023
428 | Associated Telenet | 0.00000067 | 0.00000023
429 | Innovative Telecom | 0.00000063 | 0.00000022
430 | RCN Long Distance | 0.00000063 | 0.00000022
431 | North American Digicom Corp. | 0.00000063 | 0.00000022
432 | Discount Long Distance of America | 0.00000059 | 0.00000021
433 | Blue Mountain Cellular dba CellularOne | 0.00000059 | 0.00000021
434 | ARRIVA Communications | 0.00000059 | 0.00000021
435 | TMC Long Distance dba Cherry Communications | 0.00000055 | 0.00000019
436 | American Long Distance Exchange | 0.00000055 | 0.00000019
437 | TelVue Corp. | 0.00000055 | 0.00000019
438 | Frontier Communications International | 0.00000055 | 0.00000019
439 | KDD America, Inc. | 0.00000051 | 0.00000018
440 | Preferred Telecom | 0.00000051 | 0.00000018
441 | MEANS Telcom | 0.00000051 | 0.00000018
442 | HSS Vending Distributors | 0.00000051 | 0.00000018
443 | Alo-USA Corp. | 0.00000051 | 0.00000018
444 | Nationwide Long Distance | 0.00000047 | 0.00000017
445 | U S P & C, Inc. | 0.00000047 | 0.00000017
446 | Low Country Carrier dba Hargray L.D. Co. | 0.00000047 | 0.00000017
447 | Call America/Palm Desert | 0.00000043 | 0.00000015
448 | Select Communications | 0.00000043 | 0.00000015
449 | Chautauqua & Erie Communications | 0.00000043 | 0.00000015
450 | Poka-Lambro Telecommunications | 0.00000043 | 0.00000015
451 | Telecare | 0.00000043 | 0.00000015
452 | International Telcom, Ltd | 0.00000039 | 0.00000014
453 | STARTEC | 0.00000039 | 0.00000014
454 | Association Communications | 0.00000039 | 0.00000014
455 | Ben Lomand Communications | 0.00000039 | 0.00000014
456 | Sprint Local Telecommunications Division | 0.00000035 | 0.00000012
457 | American Fiber Com | 0.00000035 | 0.00000012
458 | INFO-TEL, Inc. | 0.00000035 | 0.00000012
459 | USP Communications | 0.00000035 | 0.00000012
460 | PBC Long Distance | 0.00000035 | 0.00000012
461 | Advanced Telecommunications | 0.00000035 | 0.00000012
462 | Advanced Telecom, Inc. | 0.00000031 | 0.00000011
463 | U.S. Republic Communications | 0.00000031 | 0.00000011
464 | REAMS COMMUNICATIONS dba VALULINE LONG D | 0.00000031 | 0.00000011
465 | CoServ | 0.00000031 | 0.00000011
466 | Sam's Discount Long Distance | 0.00000027 | 0.00000010
467 | ARC Networks | 0.00000027 | 0.00000010
468 | VALU-LINE OF ANGLETON | 0.00000027 | 0.00000010
469 | Michigan Independent Network | 0.00000027 | 0.00000010
470 | Valley Telephone Long Distance | 0.00000027 | 0.00000010
471 | Scherers Communications Group | 0.00000024 | 0.00000008
472 | Heritage Communications | 0.00000024 | 0.00000008
473 | Friendship Long Distance | 0.00000024 | 0.00000008
474 | Interstate Operators | 0.00000024 | 0.00000008
475 | TELCO | 0.00000020 | 0.00000007
476 | Mountainview Communications | 0.00000020 | 0.00000007
477 | BT North America | 0.00000020 | 0.00000007
478 | The Basico Group | 0.00000020 | 0.00000007
479 | Colorado River Communications | 0.00000020 | 0.00000007
480 | National Fiber Com | 0.00000020 | 0.00000007
481 | J B Operators | 0.00000020 | 0.00000007
482 | Westel Telecommunications, Ltd. | 0.00000020 | 0.00000007
483 | Atlas Communications & Telephone C.D. | 0.00000020 | 0.00000007
484 | Northern Communications | 0.00000020 | 0.00000007
485 | Pencor/Palmerton | 0.00000020 | 0.00000007
486 | RANGER TELECOMMUNICATIONS | 0.00000016 | 0.00000006
487 | OMNICALL COMMUNICATIONS CORPORATION | 0.00000016 | 0.00000006
488 | Standard TelCom | 0.00000016 | 0.00000006
489 | Alascom | 0.00000016 | 0.00000006
490 | OPTICOM ONE CALL | 0.00000016 | 0.00000006
491 | Savemore Network | 0.00000016 | 0.00000006
492 | Northern Arizona Communications Corp. | 0.00000016 | 0.00000006
493 | Associated Network Partners | 0.00000016 | 0.00000006
494 | Standard Long Distance | 0.00000016 | 0.00000006
495 | ABCO Communications | 0.00000016 | 0.00000006
496 | Global Com | 0.00000016 | 0.00000006
497 | Oneonta Telephone Co. | 0.00000016 | 0.00000006
498 | 360° Long Distance | 0.00000016 | 0.00000006
499 | Verizon Select Services | 0.00000016 | 0.00000006
500 | ITC Networks of Utah | 0.00000016 | 0.00000006
501 | Southern New England Telephone (SNET) | 0.00000016 | 0.00000006
502 | NEXTLINK | 0.00000012 | 0.00000004
503 | Texustel | 0.00000012 | 0.00000004
504 | Fairview Telecom | 0.00000012 | 0.00000004
505 | Long Distance Assistance | 0.00000012 | 0.00000004
506 | Progressive National Telephone Co. | 0.00000012 | 0.00000004
507 | Northwest Telecom | 0.00000012 | 0.00000004
508 | Comtel Tech | 0.00000012 | 0.00000004
509 | Metro One Telecommunications | 0.00000012 | 0.00000004
510 | Commonwealth Telecom, Inc. | 0.00000012 | 0.00000004
511 | Bethany Telecom | 0.00000012 | 0.00000004
512 | Covista, Inc. | 0.00000012 | 0.00000004
513 | NetLinx Telecommunications Corp. | 0.00000012 | 0.00000004
514 | CFW NETWORK | 0.00000012 | 0.00000004
515 | Nextel Communications | 0.00000012 | 0.00000004
516 | Mid-Com Communications | 0.00000012 | 0.00000004
517 | American Fibernet, Inc. | 0.00000012 | 0.00000004
518 | Williams Communications | 0.00000012 | 0.00000004
519 | Cellular One 800 & Long Distance Services | 0.00000012 | 0.00000004
520 | Telephone Systems of Georgia | 0.00000012 | 0.00000004
521 | TeleCable Corp. | 0.00000008 | 0.00000003
522 | Telelink | 0.00000008 | 0.00000003
523 | Valu-Line of St. Joseph | 0.00000008 | 0.00000003
524 | Bluegrass Long Distance | 0.00000008 | 0.00000003
525 | OCOM Long Distance | 0.00000008 | 0.00000003
526 | Vortel Communications | 0.00000008 | 0.00000003
527 | BKC Telecommunications | 0.00000008 | 0.00000003
528 | Gala Communications | 0.00000008 | 0.00000003
529 | Digital Communications | 0.00000008 | 0.00000003
530 | World Wide Connect | 0.00000008 | 0.00000003
531 | Telephone Support Systems | 0.00000008 | 0.00000003
532 | The Switchboard | 0.00000008 | 0.00000003
533 | Econ-A-Call Inc. of Hays | 0.00000008 | 0.00000003
534 | Metro Telecomm. Svcs. | 0.00000008 | 0.00000003
535 | Diamond Communications | 0.00000008 | 0.00000003
536 | Long Distance by Cellular One | 0.00000008 | 0.00000003
537 | Econocom Long Distance | 0.00000008 | 0.00000003
538 | Genesis Communications Int'l | 0.00000008 | 0.00000003
539 | Infonet Long Distance | 0.00000008 | 0.00000003
540 | Tel-Central of Jefferson City | 0.00000008 | 0.00000003
541 | Chibardun Telephone Cooperative | 0.00000008 | 0.00000003
542 | Guam Telephone Authority | 0.00000008 | 0.00000003
543 | International Telemedia Associates | 0.00000008 | 0.00000003
544 | Cominex | 0.00000008 | 0.00000003
545 | Standard Communications Inc. dba SCI | 0.00000008 | 0.00000003
546 | Partners Telecom | 0.00000008 | 0.00000003
547 | Sisk Communications | 0.00000008 | 0.00000003
548 | Telecommunications Consultants | 0.00000008 | 0.00000003
549 | Valley Star-Tel | 0.00000008 | 0.00000003
550 | Western Telenet | 0.00000008 | 0.00000003
551 | Willamette Valley Telecom | 0.00000008 | 0.00000003
552 | GTE Telephone Operations | 0.00000008 | 0.00000003
553 | Communication TeleSystems Intl. (CTS) | 0.00000008 | 0.00000003
554 | OCOM Corp. | 0.00000008 | 0.00000003
555 | UI Long Distance | 0.00000004 | 0.00000001
556 | Federal TransTel, Inc. (FTT) | 0.00000004 | 0.00000001
557 | St. Pierre Communication Network | 0.00000004 | 0.00000001
558 | Rainier Cable | 0.00000004 | 0.00000001
559 | Network Billing & Collection | 0.00000004 | 0.00000001
560 | Fastline Communication Network | 0.00000004 | 0.00000001
561 | TeleHub Communications Corp. | 0.00000004 | 0.00000001
562 | Future Connect | 0.00000004 | 0.00000001
563 | Regency Long Distance | 0.00000004 | 0.00000001
564 | Telephone Express | 0.00000004 | 0.00000001
565 | Firstel | 0.00000004 | 0.00000001
566 | Cincinnati Bell Telephone | 0.00000004 | 0.00000001
567 | HTC Communications | 0.00000004 | 0.00000001
568 | American Consultants Alliance | 0.00000004 | 0.00000001
569 | Branson Telephone | 0.00000004 | 0.00000001
570 | Community Long Distance | 0.00000004 | 0.00000001
571 | Digi-Cell, Inc. | 0.00000004 | 0.00000001
572 | DigiTel | 0.00000004 | 0.00000001
573 | Island Tel, PEI | 0.00000004 | 0.00000001
574 | London Telecom Network Corp. | 0.00000004 | 0.00000001
575 | Meridian Telecom | 0.00000004 | 0.00000001
576 | NETWORK ONE | 0.00000004 | 0.00000001
577 | Northland Telephone Systems | 0.00000004 | 0.00000001
578 | PBT Communications | 0.00000004 | 0.00000001
579 | TCAST Communications, Inc. | 0.00000004 | 0.00000001
580 | Telecon Communications Corp. | 0.00000004 | 0.00000001
581 | TELEFONICA LARGA DISTANCIA | 0.00000004 | 0.00000001
582 | TLD DE PUERTO RICO | 0.00000004 | 0.00000001
583 | TransWorld Network Corp. | 0.00000004 | 0.00000001
584 | U.S.Fiberline Communications | 0.00000004 | 0.00000001
585 | WBC Communications, Inc. | 0.00000004 | 0.00000001
586 | WORLD-WIDE TELCO | 0.00000004 | 0.00000001
587 | American Communications Technology | 0.00000004 | 0.00000001
588 | Western Telephone & Television | 0.00000004 | 0.00000001
589 | Cimco Communications | 0.00000004 | 0.00000001
590 | Cellular XL Associates | 0.00000004 | 0.00000001
591 | CityNet Communications | 0.00000004 | 0.00000001
592 | Future Telephone Communications | 0.00000004 | 0.00000001
593 | Network Technologies | 0.00000004 | 0.00000001
594 | Voyager Networks | 0.00000004 | 0.00000001
595 | DIGITRAN CORP. | 0.00000004 | 0.00000001
596 | CP-Tel Network Services, Inc. | 0.00000004 | 0.00000001
597 | CommNet Cellular | 0.00000004 | 0.00000001
598 | Carrier Concepts International Corp. | 0.00000004 | 0.00000001
599 | Intelenet Commission | 0.00000004 | 0.00000001
600 | METRO TELEPHONE | 0.00000004 | 0.00000001
601 | U.S. TELE-COMM, INC. | 0.00000004 | 0.00000001
602 | Citizens Long Distance | 0.00000004 | 0.00000001
603 | TLD, Inc. | 0.00000004 | 0.00000001
604 | Ameritech Communications | 0.00000004 | 0.00000001
605 | BizTel Long Distance Telephone Co. | 0.00000004 | 0.00000001
606 | Redwood Long Distance | 0.00000004 | 0.00000001
607 | Contact America | 0.00000004 | 0.00000001
608 | MID MCND dba MIDCOM Communications | 0.00000004 | 0.00000001
609 | Off Campus Communications | 0.00000004 | 0.00000001
610 | Consolidated Comm. Public Services | 0.00000004 | 0.00000001
611 | Beehive Telephone Co. | 0.00000004 | 0.00000001
612 | Hawaiian Telephone Co. (GTE) | 0.00000004 | 0.00000001
613 | Tel Serve | 0.00000004 | 0.00000001
614 | Ray-Tel, Inc. | 0.00000004 | 0.00000001

28. In Appendix C, the Commission identified the payors and designated the monthly per-payphone compensation amounts for the Post-Intermediate Period, beginning April 21, 1999.

Appendix C.—Post-Intermediate Period Allocation List
No. | Name | Percentage | Amount
1 | AT&T Communications | 33.69552735 | $11.96865132
2 | MCI | 17.02639727 | 6.04777631
3 | Sprint | 11.11485111 | 3.94799511
4 | WorldCom | 10.23852165 | 3.63672289
5 | Global Crossing Telecommunications | 7.15106942 | 2.54005986
6 | Qwest | 7.12891379 | 2.53219018
7 | WCOM | 3.45572976 | 1.22747521
8 | ILEC 2.19 | 2.19000000 | 0.77788800
9 | Cable & Wireless | 0.87472581 | 0.31070261
10 | Global Crossing | 0.73143840 | 0.25980692
11 | Frontier Communications Services | 0.67982311 | 0.24147317
12 | Broadwing Communications Services Inc. | 0.60573560 | 0.21515729
13 | Telco Communications Group dba Dial & Save | 0.57331218 | 0.20364049
14 | Touch America, Inc. | 0.52556846 | 0.18668192
15 | IDT Corp. | 0.46487055 | 0.16512202
16 | Business Telecom, Inc. (BTI) | 0.41529492 | 0.14751276
17 | LCI International | 0.38508503 | 0.13678220
18 | WorldXChange | 0.24004960 | 0.08526562
19 | PT-1 Communications | 0.19235182 | 0.06832337
20 | McLeodUSA | 0.18014775 | 0.06398848
21 | One Call Communications | 0.16435648 | 0.05837942
22 | ATX Telecommunications Services | 0.16231652 | 0.05765483
23 | Excel Telecommunications | 0.11654172 | 0.04139562
24 | DeltaCom L.D.S. | 0.11205694 | 0.03980263
25 | Network Plus | 0.09200160 | 0.03267897
26 | Long Distance of Michigan (LDMI) | 0.09124466 | 0.03241010
27 | EconoPhone | 0.08965730 | 0.03184627
28 | Switched Service Communications | 0.08282780 | 0.02942043
29 | Intermedia Communications | 0.08202164 | 0.02913409
30 | VERIZON (not Verizon IntraLATA—LEC) | 0.07539638 | 0.02678080
31 | Total-Tel USA | 0.06460627 | 0.02294815
32 | Tel America | 0.05266606 | 0.01870698
33 | One Star Long Distance | 0.05075153 | 0.01802694
34 | The CommuniGroup Of KC | 0.04547681 | 0.01615336
35 | Tandem Access for Database Query | 0.04360270 | 0.01548768
36 | American Long Lines | 0.04159377 | 0.01477411
37 | Logix Communications | 0.04139743 | 0.01470437
38 | Bell Atlantic Communications | 0.04136967 | 0.01469451
39 | WesTel | 0.03890862 | 0.01382034
40 | NETECH Comm. (US West) | 0.03875592 | 0.01376610
41 | US WATS | 0.02990079 | 0.01062076
42 | Cooperative Communications | 0.02482544 | 0.00881800
43 | Pac-West Telecomm dba AmeriCall | 0.02391389 | 0.00849421
44 | Global Crossing Telemanagement | 0.02192701 | 0.00778847
45 | Capital Telecommunications | 0.02078209 | 0.00738180
46 | Broadwing Telecommunications Inc. | 0.01993413 | 0.00708060
47 | South Carolina Network | 0.01829131 | 0.00649707
48 | ACC Long Distance Corp. | 0.01741376 | 0.00618537
49 | Cincinnati Bell Long Distance | 0.01660766 | 0.00589904
50 | Long Distance Savers | 0.01650078 | 0.00586108
51 | First Communications | 0.01497019 | 0.00531741
52 | TXU Communications | 0.01421800 | 0.00505023
53 | Southwestern Bell Telephone | 0.01407712 | 0.00500019
54 | TCAST Communications, Inc. | 0.01311337 | 0.00465787
55 | Shared Communications Services | 0.01300293 | 0.00461864
56 | ITC DeltaCom Communications | 0.01299003 | 0.00461406
57 | I-Link Communications | 0.01274703 | 0.00452774
58 | Birch Telecom | 0.01229039 | 0.00436555
59 | Williams Communications | 0.01197243 | 0.00425261
60 | CTS Telcom of Florida | 0.01189664 | 0.00422569
61 | WinStar | 0.01143703 | 0.00406243
62 | US Xchange | 0.00998448 | 0.00354649
63 | SBC | 0.00983683 | 0.00349404
64 | IDS Long Distance | 0.00948736 | 0.00336991
65 | Long Distance Management | 0.00869285 | 0.00308770
66 | Long Distance Telephone Savers | 0.00839879 | 0.00298325
67 | Long Distance Discount | 0.00775520 | 0.00275465
68 | Powercom Corp. | 0.00755607 | 0.00268392
69 | GST Telecom | 0.00736841 | 0.00261726
70 | Westinghouse Electric Corp. | 0.00725440 | 0.00257676
71 | EATELNET | 0.00683467 | 0.00242768
72 | Norlight Telecommunications | 0.00667620 | 0.00237138
73 | TeleBeam | 0.00652307 | 0.00231700
74 | Frontier Communications Int'l, Inc. | 0.00630040 | 0.00223790
75 | Austin Bestline | 0.00617985 | 0.00219508
76 | Electric Lightwave | 0.00601377 | 0.00213609
77 | Eastern Telephone Systems | 0.00567334 | 0.00201517
78 | XTEL | 0.00563197 | 0.00200047
79 | US Link Long Distance | 0.00526181 | 0.00186900
80 | Destia | 0.00523810 | 0.00186057
81 | Williams Local Network | 0.00495901 | 0.00176144
82 | Southwestern Bell Comms. Svcs. dba Pacific Bell L.D. | 0.00484096 | 0.00171951
83 | GCI Globalcom | 0.00478277 | 0.00169884
84 | Atlantic Cell. dba Long Distance by Cellular One | 0.00452978 | 0.00160898
85 | XO Communications | 0.00449589 | 0.00159694
86 | Arcada Communications | 0.00423173 | 0.00150311
87 | C-COM | 0.00392073 | 0.00139264
88 | RSL COM U.S.A. | 0.00379352 | 0.00134746
89 | The CommuniGroup | 0.00359706 | 0.00127768
90 | Chadwick Telephone | 0.00354778 | 0.00126017
91 | General Communication | 0.00352525 | 0.00125217
92 | CapRock Telemanagement | 0.00350136 | 0.00124368
93 | Iowa Communications Network | 0.00347936 | 0.00123587
94 | FOX COMMUNICATIONS CORP. | 0.00305548 | 0.00108531
95 | Capsule Communications | 0.00294991 | 0.00104781
96 | COMMUNICATIONS OPTIONS | 0.00294503 | 0.00104608
97 | Coast to Coast Telecommunications | 0.00279191 | 0.00099169
98 | Cypress Telecommunications Corp. (Cytel) | 0.00252727 | 0.00089769
99 | GST ACTION TELECOM | 0.00240553 | 0.00085444
100 | Americall Communications | 0.00221222 | 0.00078578
101 | KTNT Communications | 0.00194140 | 0.00068959
102 | VarTec Telecom | 0.00192173 | 0.00068260
103 | Network One | 0.00183167 | 0.00065061
104 | QCC, Inc. | 0.00173757 | 0.00061719
105 | Valuline Long Distance | 0.00171546 | 0.00060933
106 | Concord Telephone Long Distance | 0.00155247 | 0.00055144
107 | INFO-TEL COMMUNICATIONS | 0.00142883 | 0.00050752
108 | ProCom, Inc. | 0.00139191 | 0.00049441
109 | AT&T EasyLink Services | 0.00139090 | 0.00049405
110 | RCC Network | 0.00136219 | 0.00048385
111 | Digital Telecommunications | 0.00111140 | 0.00039477
112 | Midco Communications | 0.00111122 | 0.00039471
113 | United Communications | 0.00102200 | 0.00036301
114 | Off Campus Telecommunications | 0.00096565 | 0.00034300
115 | WorldCom dba Touch One Long Distance | 0.00094597 | 0.00033601
116 | BN1 Telecommunications | 0.00092659 | 0.00032913
117 | Ionex Telecommunications | 0.00085419 | 0.00030341
118 | TresCom U.S.A. | 0.00079612 | 0.00028278
119 | American Telco | 0.00079392 | 0.00028200
120 | Feist Long Distance | 0.00076758 | 0.00027265
121 | Citizens Communications | 0.00075159 | 0.00026697
122 | Atlantic Connections | 0.00075011 | 0.00026644
123 | MichTel | 0.00073091 | 0.00025962
124 | Sunshine Telephone Inc. dba SUNTEL | 0.00068983 | 0.00024503
125 | PaeTec Communications | 0.00062587 | 0.00022231
126 | Consolidated Comm. Public Services | 0.00061838 | 0.00021965
127 | Voice Technology Corp | 0.00055514 | 0.00019718
128 | OCI | 0.00054735 | 0.00019442
129 | Ameritech | 0.00054681 | 0.00019423
130 | Midcom of Arizona, Inc | 0.00053647 | 0.00019055
131 | American Telesource International | 0.00049450 | 0.00017565
132 | Telescan | 0.00048125 | 0.00017094
133 | Long Distance/USA (Sprint) | 0.00044856 | 0.00015933
134 | TCG | 0.00039761 | 0.00014123
135 | Mon-Cre Long Distance | 0.00037193 | 0.00013211
136 | Global Crossing Bandwidth | 0.00033686 | 0.00011965
137 | Uni-Tel of Farmington | 0.00030690 | 0.00010901
138 | EMI Communications Corp. | 0.00030548 | 0.00010851
139 | Shoreham Telephone | 0.00030209 | 0.00010730
140 | First Financial Management Corp. | 0.00028842 | 0.00010245
141 | Access Point | 0.00028663 | 0.00010181
142 | Questar InfoComm | 0.00025715 | 0.00009134
143 | Switch 2000 | 0.00025204 | 0.00008952
144 | Union Telephone Co. | 0.00023735 | 0.00008431
145 | Florida Digital Network | 0.00022707 | 0.00008066
146 | Motorola Inc. | 0.00020811 | 0.00007392
147 | Baystar Satellite Paging | 0.00019129 | 0.00006795
148 | NTS Communications/GMW Co. | 0.00018778 | 0.00006670
149 | VarTec Telecom dba Clear Choice Communications | 0.00018481 | 0.00006564
150 | AT&T Global Network Services (AGNS) | 0.00017773 | 0.00006313
151 | NTS Communications | 0.00016888 | 0.00005999
152 | Time Warner | 0.00016151 | 0.00005737
153 | NACT | 0.00014742 | 0.00005236
154 | Full Service Network | 0.00014670 | 0.00005211
155 | Primus (Primus Telecommunications) | 0.00014445 | 0.00005131
156 | Ameritel | 0.00014361 | 0.00005101
157 | ALLTEL Communications, Inc. | 0.00014237 | 0.00005057
158 | AT&T Canada Long Distance Services Co. | 0.00013880 | 0.00004930
159 | GTE Communications Corp. | 0.00012691 | 0.00004508
160 | TELUS Communications (Edmonton) | 0.00011496 | 0.00004083
161 | Telecom*USA (MCI) | 0.00011449 | 0.00004067
162 | Axces | 0.00011229 | 0.00003988
163 | NATIONAL Telecom of Florida | 0.00010581 | 0.00003758
164 | POPP Telcom | 0.00010373 | 0.00003684
165 | BC Tel | 0.00009243 | 0.00003283
166 | U.S. Long Distance | 0.00009231 | 0.00003279
167 | Tel Serve | 0.00008649 | 0.00003072
168 | Oncor Communications | 0.00007638 | 0.00002713
169 | CEO Telecommunications Star Telecommunica | 0.00007145 | 0.00002538
170 | Tele-Sys., Inc. | 0.00006901 | 0.00002451
171 | IPS Telecom | 0.00006509 | 0.00002312
172 | Teleport Communications Group | 0.00006390 | 0.00002270
173 | American Express Travel Related Services | 0.00005290 | 0.00001879
174 | POPP Telecom | 0.00005076 | 0.00001803
175 | Coastal Long Distance Services | 0.00004720 | 0.00001676
176 | Fibernet Telecommunications | 0.00004702 | 0.00001670
177 | Yavapai Telephone Exchange | 0.00004345 | 0.00001543
178 | Advanced Mkg. Svcs. dba Dial Anywhere | 0.00004155 | 0.00001476
179 | American Telecommunications Enterprises | 0.00004066 | 0.00001444
180 | Citizens | 0.00004012 | 0.00001425
181 | Touch America Services | 0.00003864 | 0.00001372
182 | Canby Telephone Association | 0.00003787 | 0.00001345
183 | EASTERNTEL | 0.00003323 | 0.00001180
184 | STAR TELECOM/ALLSTAR | 0.00003174 | 0.00001127
185 | Iowa Network Services | 0.00003032 | 0.00001077
186 | Alliance Group Services | 0.00002592 | 0.00000921
187 | SBC Long Distance | 0.00002562 | 0.00000910
188 | Cleartel Communications | 0.00002550 | 0.00000906
189 | Interloop, Inc. | 0.00002503 | 0.00000889
190 | Incomnet Communications Corp. | 0.00002342 | 0.00000832
191 | PSA, Inc. | 0.00002128 | 0.00000756
192 | United Telephone Co. | 0.00002045 | 0.00000726
193 | U.S. Net | 0.00002003 | 0.00000712
194 | NetLinx Telecommunications Corp. | 0.00001902 | 0.00000676
195 | Cherry Communications | 0.00001807 | 0.00000642
196 | Systems 1000 | 0.00001551 | 0.00000551
197 | Sprint Canada, Inc. | 0.00001504 | 0.00000534
198 | Valu-Line of Longview | 0.00001391 | 0.00000494
199 | Baltimore-Washington Telephone | 0.00001379 | 0.00000490
200 | Parkway Communications | 0.00001183 | 0.00000420
201 | CellToll Corp. | 0.00001022 | 0.00000363
202 | MTS Communications | 0.00000963 | 0.00000342
203 | Matrix Telecom | 0.00000915 | 0.00000325
204 | Eastern Telecom dba InterQuest | 0.00000898 | 0.00000319
205 | Century Telecommunications | 0.00000886 | 0.00000315
206 | Star Tel, Inc. | 0.00000862 | 0.00000306
207 | Trinet | 0.00000814 | 0.00000289
208 | Deluxe Data Systems | 0.00000761 | 0.00000270
209 | Light Link Inc dba Taylor Comm. Grp. | 0.00000737 | 0.00000262
210 | West Coast Telecommunications | 0.00000713 | 0.00000253
211 | Pacific Bell Communications | 0.00000684 | 0.00000243
212 | Horry Telephone Long Distance | 0.00000642 | 0.00000228
213 | Phoenix Network | 0.00000642 | 0.00000228
214 | Westcom Long Distance | 0.00000630 | 0.00000224
215 | Escondido Telephone Co. | 0.00000618 | 0.00000220
216 | WorldCom Technologies | 0.00000565 | 0.00000201
217 | Intl.800 Telecom dba Telecall Long Dist. (EGLOBE) | 0.00000565 | 0.00000201
218 | NEXTLINK | 0.00000499 | 0.00000177
219 | Nationwide Communications | 0.00000493 | 0.00000175
220 | Coastal Telephone Co. | 0.00000493 | 0.00000175
221 | Access Long Distance | 0.00000470 | 0.00000167
222 | Tel-Share | 0.00000464 | 0.00000165
223 | Genesis Communications Int'l | 0.00000464 | 0.00000165
224 | Gulf Long Distance | 0.00000440 | 0.00000156
225 | Hi-Plains NTS Communications | 0.00000428 | 0.00000152
226 | ARRIVA Communications | 0.00000422 | 0.00000150
227 | Network Operator Services | 0.00000404 | 0.00000144
228 | American Network Exchange (AMNEX) | 0.00000357 | 0.00000127
229 | Pilgrim Telephone | 0.00000357 | 0.00000127
230 | Southern New England Telephone (SNET) | 0.00000351 | 0.00000125
231 | Long Distance Wholesale Club (Excel) | 0.00000345 | 0.00000122
232 | Low Country Carrier dba Hargray L.D. Co. | 0.00000309 | 0.00000110
233 | People's Telephone | 0.00000279 | 0.00000099
234 | NOS Communications | 0.00000273 | 0.00000097
235 | North State Telephone Long Distance Co. | 0.00000262 | 0.00000093
236 | Star Tel Transmission Co. | 0.00000256 | 0.00000091
237 | Frontier Communications-North Central Region | 0.00000250 | 0.00000089
238 | Call Savers | 0.00000250 | 0.00000089
239 | Century Long Distance | 0.00000250 | 0.00000089
240 | Souris River Telecommunications | 0.00000250 | 0.00000089
241 | SouthWest United Communication | 0.00000250 | 0.00000089
242 | Wholesale Telecom Corp. | 0.00000250 | 0.00000089
243 | Uni Dial | 0.00000232 | 0.00000082
244 | Texustel | 0.00000226 | 0.00000080
245 | ITC Networks | 0.00000220 | 0.00000078
246 | Eclipse Communications | 0.00000208 | 0.00000074
247 | ConQuest | 0.00000190 | 0.00000068
248 | EGLOBE INC dba INTL.800 TELECOM dba TELECAL | 0.00000178 | 0.00000063
249 | Telergy | 0.00000178 | 0.00000063
250 | Long Distance Network | 0.00000172 | 0.00000061
251 | Dial Long Distance Billing Svcs. | 0.00000166 | 0.00000059
252 | Fones West Digital Systems | 0.00000166 | 0.00000059
253 | Home Long Distance | 0.00000166 | 0.00000059
254 | Call America of Riverside | 0.00000160 | 0.00000057
255 | Aliant Systems | 0.00000160 | 0.00000057
256 | USN Communications | 0.00000137 | 0.00000049
257 | HSS Vending Distributors | 0.00000131 | 0.00000046
258 | Chautauqua & Erie Communications | 0.00000131 | 0.00000046
259 | Star Tel Victoria | 0.00000131 | 0.00000046
260 | fONOROLA | 0.00000119 | 0.00000042
261 | The Phone Co. | 0.00000119 | 0.00000042
262 | REAMS COMMUNICATIONS dba VALULINE LONG D | 0.00000113 | 0.00000040
263 | Apple Communications | 0.00000113 | 0.00000040
264 | Convergent Communications | 0.00000107 | 0.00000038
265 | EqualNet Corp. | 0.00000107 | 0.00000038
266 | Central Telephone Co. | 0.00000101 | 0.00000036
267 | KRB Telecom | 0.00000095 | 0.00000034
268 | Ben Lomand Communications | 0.00000083 | 0.00000030
269 | Valu-Line of Amarillo | 0.00000077 | 0.00000027
270 | Econo. Call Long Distance Services | 0.00000065 | 0.00000023
271 | Public Phone | 0.00000065 | 0.00000023
272 | United States Cellular | 0.00000065 | 0.00000023
273 | PBC Long Distance | 0.00000065 | 0.00000023
274 | Alo-USA Corp. | 0.00000059 | 0.00000021
275 | USLink Long Distance | 0.00000053 | 0.00000019
276 | Show-Me Long Distance | 0.00000053 | 0.00000019
277 | Farmers Long Distance | 0.00000053 | 0.00000019
278 | Interlink Telecommunications | 0.00000048 | 0.00000017
279 | Fiberline Network Communications | 0.00000048 | 0.00000017
280 | TelVue Corp. | 0.00000048 | 0.00000017
281 | Association Communications | 0.00000048 | 0.00000017
282 | American Tel Enterprises | 0.00000048 | 0.00000017
283 | Integrated Systems Corp. | 0.00000042 | 0.00000015
284 | L.D. Services | 0.00000042 | 0.00000015
285 | United Telephone Co. dba TELAMERICA L.D. | 0.00000042 | 0.00000015
286 | Colorado River Communications | 0.00000042 | 0.00000015
287 | Metro One Telecommunications | 0.00000042 | 0.00000015
288 | Frontier Communications of the Great Lakes | 0.00000036 | 0.00000013
289 | Working Assets | 0.00000036 | 0.00000013
290 | Brooks Fiber Communications (WorldCom) | 0.00000030 | 0.00000011
291 | WATS/800 | 0.00000030 | 0.00000011
292 | American Tel Group | 0.00000030 | 0.00000011
293 | Call America | 0.00000030 | 0.00000011
294 | Caribbean Telecommunications Consortium | 0.00000030 | 0.00000011
295 | International Telephone Corp. | 0.00000030 | 0.00000011
296 | MCI/1-800-COLLECT | 0.00000030 | 0.00000011
297 | Verizon Select Services | 0.00000030 | 0.00000011
298 | BizTel Long Distance Telephone Co. | 0.00000030 | 0.00000011
299 | Cameron Long Distance | 0.00000030 | 0.00000011
300 | STARTEC, Inc. | 0.00000030 | 0.00000011
301 | Athena International | 0.00000024 | 0.00000008
302 | Telephone Assoc. Long Distance Svcs. | 0.00000024 | 0.00000008
303 | Home Owners L.D. dba HOLD Billing Svcs. | 0.00000024 | 0.00000008
304 | Extelcom dba Express Tel | 0.00000024 | 0.00000008
305 | SBS/MCI | 0.00000024 | 0.00000008
306 | Easton Telecom Services | 0.00000024 | 0.00000008
307 | National Brands dba Sharenet Communications | 0.00000024 | 0.00000008
308 | Heart of Iowa Communications | 0.00000024 | 0.00000008
309 | Consolidated Network | 0.00000018 | 0.00000006
310 | BMG/TELEMANAGEMENT SYSTEMS (BMG) | 0.00000018 | 0.00000006
311 | Telecom Affiliates | 0.00000018 | 0.00000006
312 | Vista Group International | 0.00000018 | 0.00000006
313 | OCOM Long Distance | 0.00000018 | 0.00000006
314 | Marietta Fibernet | 0.00000018 | 0.00000006
315 | NYNEX Long Distance | 0.00000018 | 0.00000006
316 | Intercontinental Communications Group (ICG) | 0.00000012 | 0.00000004
317 | Americatel | 0.00000012 | 0.00000004
318 | U. S. Link | 0.00000012 | 0.00000004
319 | Tele Tech | 0.00000012 | 0.00000004
320 | TCA Long Distance | 0.00000012 | 0.00000004
321 | Intel Communications | 0.00000012 | 0.00000004
322 | AUC Communications | 0.00000012 | 0.00000004
323 | AmeriVision Communications | 0.00000012 | 0.00000004
324 | OPTICOM ONE CALL | 0.00000012 | 0.00000004
325 | ABCO Communications | 0.00000012 | 0.00000004
326 | MID SEA dba MIDCOM COMMUNICATIONS | 0.00000012 | 0.00000004
327 | PBT Communications | 0.00000012 | 0.00000004
328 | USLINK | 0.00000012 | 0.00000004
329 | Hotel America | 0.00000012 | 0.00000004
330 | Lexington Telephone Long Distance | 0.00000012 | 0.00000004
331 | Worldlink Long Distance | 0.00000012 | 0.00000004
332 | CTS dba WorldXChange | 0.00000012 | 0.00000004
333 | AirTouch Cellular | 0.00000012 | 0.00000004
334 | VTA, Inc. | 0.00000012 | 0.00000004
335 | US Long Distance | 0.00000006 | 0.00000002
336 | GST Call America | 0.00000006 | 0.00000002
337 | Valu-Line of Kansas | 0.00000006 | 0.00000002
338 | Action Telcom Co. | 0.00000006 | 0.00000002
339 | Amerinet Communications | 0.00000006 | 0.00000002
340 | Connect Americom Corp. | 0.00000006 | 0.00000002
341 | IntelCom Group | 0.00000006 | 0.00000002
342 | DeltaCom Long Distance Services | 0.00000006 | 0.00000002
343 | ComCentral dba Southnet Services | 0.00000006 | 0.00000002
344 | Lucky Dog Phone Co. | 0.00000006 | 0.00000002
345 | Manitoba Telephone System | 0.00000006 | 0.00000002
346 | Telephone Communications Corp. | 0.00000006 | 0.00000002
347 | Asia International Services Corp. | 0.00000006 | 0.00000002
348 | Touch 1 Communications | 0.00000006 | 0.00000002
349 | MetroLink | 0.00000006 | 0.00000002
350 | LA CONEXION FAMILIAR, INC. | 0.00000006 | 0.00000002
351 | TTE OF CHARLESTON | 0.00000006 | 0.00000002
352 | Advanced Telecommunications Network | 0.00000006 | 0.00000002
353 | American Discount Telecommunications | 0.00000006 | 0.00000002
354 | METRONET Long Distance Communications | 0.00000006 | 0.00000002
355 | Tel-Optic, Inc. dba Universal Network Services | 0.00000006 | 0.00000002
356 | American Long Distance Corp. | 0.00000006 | 0.00000002
357 | RCN Long Distance | 0.00000006 | 0.00000002
358 | TMC Long Distance dba Cherry Communications | 0.00000006 | 0.00000002
359 | KDD America, Inc. | 0.00000006 | 0.00000002
360 | Startec Global Operating Co. | 0.00000006 | 0.00000002
361 | Westel Telecommunications, Ltd. | 0.00000006 | 0.00000002
362 | ITC Networks of Utah | 0.00000006 | 0.00000002
363 | Nextel Communications | 0.00000006 | 0.00000002
364 | Telelink | 0.00000006 | 0.00000002
365 | Communication TeleSystems Intl. | 0.00000006 | 0.00000002
366 | TLD DE PUERTO RICO | 0.00000006 | 0.00000002
367 | American Communications Technology | 0.00000006 | 0.00000002
368 | Hawaiian Telephone Co. (GTE) | 0.00000006 | 0.00000002
369 | TRT Telecommunications Corp. | 0.00000006 | 0.00000002
370 | Allcomm Long Distance | 0.00000006 | 0.00000002
371 | Beauzile Devereux Communications | 0.00000006 | 0.00000002
372 | CCT (California Catalog and Technology) | 0.00000006 | 0.00000002
373 | H.G. Telecom | 0.00000006 | 0.00000002
374 | Long Distance Direct | 0.00000006 | 0.00000002
375 | O.L.C. Co. | 0.00000006 | 0.00000002
376 | Plant Long Distance Co. | 0.00000006 | 0.00000002
377 | Skycomm Technologies | 0.00000006 | 0.00000002
378 | Tri-Rural Independent Operations | 0.00000006 | 0.00000002
379 | Quest Telecommunications | 0.00000006 | 0.00000002
380 | American Lightwave Communications | 0.00000006 | 0.00000002
381 | Diversified Communications | 0.00000006 | 0.00000002
382 | Metropolitan Telecommunications | 0.00000006 | 0.00000002
383 | Monroe Telephone Co. dba Monroe Area Comm | 0.00000006 | 0.00000002
384 | Plains Cooperative Telephone Association | 0.00000006 | 0.00000002
385 | VISTA-UNITED TELECOMMUNICATIONS | 0.00000006 | 0.00000002
386 | World Pass Communications Corp. | 0.00000006 | 0.00000002
387 | Econ-o-Call, Inc. | 0.00000006 | 0.00000002
388 | Fiberlink Communications Corp | 0.00000006 | 0.00000002
389 | Wisconsin Communications Network | 0.00000006 | 0.00000002
390 | JAS Networks | 0.00000006 | 0.00000002
391 | LAKES STATES COMM | 0.00000006 | 0.00000002
392 | NexBell | 0.00000006 | 0.00000002
393 | Opticall Communications Services | 0.00000006 | 0.00000002
394 | Bell Canada | 0.00000006 | 0.00000002
395 | Enhanced Services Billing | 0.00000006 | 0.00000002
396 | Innovative Communications | 0.00000006 | 0.00000002
397 | Consolidated Communications Network | 0.00000006 | 0.00000002
398 | Southwestern Bell Comms. Svcs. dba Ameritech | 0.00000006 | 0.00000002
399 | Viatel, Inc. | 0.00000006 | 0.00000002
400 | Nexus Communications | 0.00000006 | 0.00000002
401 | Net Communications Corp. | 0.00000006 | 0.00000002
402 | Communication Services of Colorado | 0.00000006 | 0.00000002
403 | Frontier Local Services | 0.00000006 | 0.00000002
404 | Omni Communications | 0.00000006 | 0.00000002
405 | Total Media Technologies, Inc. | 0.00000006 | 0.00000002
406 | Centennial De Puerto Rico | 0.00000006 | 0.00000002
407 | Massena Telephone Co. | 0.00000006 | 0.00000002
408 | Paradise Communications | 0.00000006 | 0.00000002
409 | LDC Telecommunications Co. | 0.00000006 | 0.00000002

Paperwork Reduction Act Analysis

29. This Order was analyzed with respect to the Paperwork Reduction Act of 1995, Public Law 104-13. It contains no new or modified information collections subject to Office of Management and Budget review.

Supplemental Final Regulatory Flexibility Act Analysis

30. As required by the Regulatory Flexibility Act (RFA), 5 U.S.C. 603, an Initial Regulatory Flexibility Analysis (IRFA) was provided in the Notice of Proposed Rulemaking in CC Docket No. 96-128, 61 FR 31481, June 20, 1996. The Commission sought written public comment on the proposals in the Notice of Proposed Rulemaking, including comment on the IRFA. A Final Regulatory Flexibility Analysis (FRFA) was provided in the First Report and Order, 61 FR 52307, October 7, 1996, the First Reconsideration Order, 61 FR 65341, December 12, 1996, the Second Report and Order, 62 FR 58659, October 30, 1997, the Third Report and Order, 64 FR 13701, March 22, 1999, and the Fourth Reconsideration Order, 67 FR 9610, March 4, 2002.

31. This present Supplemental FRFA conforms to the RFA, as amended. See 5 U.S.C. 604. The RFA, 5 U.S.C. 601 et seq., has been amended by the Contract with America Advancement Act of 1996, Public Law No. 104-121, 110 Stat. 847 (1996) (CWAA). Title II of the CWAA is the Small Business Regulatory Enforcement Fairness Act of 1996 (SBREFA).

32. To the extent that any statement in this Supplemental FRFA is perceived as creating ambiguity with respect to Commission rules or statements made in the sections of the Order preceding the Supplemental FRFA, the rules and statements set forth in those preceding sections are controlling.

Need for, and Objectives of, the Rules

33. In adopting section 276 in 1996, Public Law No. 104-104, 110 Stat. 56 (1996) (codified at 47 U.S.C. 276), Congress mandated inter alia that the Commission “establish a per call compensation plan to ensure that all payphone service providers are fairly compensated for each and every completed intrastate and interstate call using their payphone. * * *” In this Order, the Commission redetermined certain aspects of the per-payphone compensation to be paid to payphone service providers (PSPs) pursuant to the remand by the U.S. Court of Appeals for the District of Columbia Circuit in Illinois, 117 F.3d. at 555. To implement the remand, the Commission calculated a per-call allocation for each carrier and clarified the manner in which the true up and offset procedures are to be applied to determine refunds and overpayments.

Summary of Significant Issues Raised by Public Comments in Response to the FRFA

34. The Commission received no comments in direct response to the FRFA in the Fourth Reconsideration Order. The Commission believes that the rules as adopted in this Order minimize the burdens of the per-payphone compensation procedure to the benefit of all parties, including small entities. See “Steps Taken to Minimize Significant Economic Impact on Small Entities, and Significant Alternatives Considered,” infra.

Description and Estimate of the Number of Small Entities to which Rules Will Apply

35. The RFA directs agencies to provide a description of, and an estimate of, the number of small entities that may be affected by the rules adopted herein, where feasible. 5 U.S.C. 604(a)(3). The RFA generally defines “small entity” as having the same meaning as the terms “small business,” “small organization,” and “small governmental jurisdiction.” 5 U.S.C. 601(6). In addition, the term “small business” has the same meaning as the term “small business concern” under the Small Business Act, unless the Commission has developed one or more definitions that are more appropriate to its activities. 5 U.S.C. 601(3) (incorporating by reference the definition of “small business concern” in 5 U.S.C. 632). Under the Small Business Act, a “small business concern” is one that: (1) Is independently owned and operated; (2) is not dominant in its field of operation; and (3) meets any additional criteria established by the Small Business Administration (SBA). 5 U.S.C. 632. Pursuant to 5 U.S.C. 601(3), the statutory definition of a small business applies “unless an agency after consultation with the Office of Advocacy of the Small Business Administration and after opportunity for public comment, establishes one or more definitions of such term which are appropriate to the activities of the agency and publishes such definition in the Federal Register.”

36. The Commission included small incumbent LECs in this RFA analysis. As noted above, a “small business” under the RFA is one that, inter alia, meets the pertinent small business size standard (e.g., a telephone communications business having 1,500 or fewer employees), and “is not dominant in its field of operation.” 5 U.S.C. 601(3). The SBA's Office of Advocacy contends that, for RFA purposes, small incumbent LECs are not dominant in their field of operation because any such dominance is not “national” in scope. See letter from Jere W. Glover, Chief Counsel for Advocacy, SBA, to Chairman William E. Kennard, FCC (May 27, 1999). The Small Business Act contains a definition of “small business concern,” which the RFA incorporates into its own definition of “small business.” See 5 U.S.C. 632(a) (Small Business Act); 5 U.S.C. 601(3) (RFA). SBA regulations interpret “small business concern” to include the concept of dominance on a national basis. 13 CFR 121.102(b). The Commission therefore included small incumbent LECs in this RFA analysis, although the Commission emphasizes that this RFA action has no effect on the Commission's analyses and determinations in other, non-RFA contexts.

37. Incumbent Local Exchange Carriers. Neither the Commission nor the SBA has developed a specific size standard for small providers of incumbent local exchange services. The closest applicable size standard under the SBA rules is for Wired Telecommunications Carriers. Under that size standard, such a business is small if it has 1,500 or fewer employees. 13 CFR 121.201, North American Industry Classification System (NAICS) code 513310. According to the most recent Telephone Trends Report data, 1,329 incumbent local exchange carriers (LECs) reported that they were engaged in the provision of local exchange services. FCC, Wireline Competition Bureau, Industry Analysis and Technology Division, Trends in Telephone Service (May 2002) (hereinafter Telephone Trends Report), Table 5.3. Of these 1,329 carriers, an estimated 1,024 have 1,500 or fewer employees and 305 have more than 1,500 employees. Id. Consequently, the Commission estimates that most providers of local exchange service are small businesses that may be affected by the rules and policies adopted herein.

38. Competitive Local Exchange Carriers or Competitive Access Providers. Neither the Commission nor the SBA has developed a size standard for small businesses specifically applicable to providers of competitive local exchange services or to competitive access providers (CAPs) or to “Other Local Exchange Carriers.” The closest applicable size standard under the SBA rules is for Wired Telecommunications Carriers. Under that SBA standard, such a business is small if it has 1,500 or fewer employees. 13 CFR 121.201, NAICS code 513310. According to the Commission's most recent Telephone Trends Report data, 532 companies reported that they were engaged in the provision of either competitive access provider services or competitive local exchange carrier services. Telephone Trends Report, Table 5.3. Of these 532 companies, an estimated 411 have 1,500 or fewer employees and 121 have more than 1,500 employees. Id. In addition, 55 carriers reported that they were “Other Local Exchange Carriers.” Id. Of the 55 “Other Local Exchange Carriers,” an estimated 53 have 1,500 or fewer employees and two have more than 1,500 employees. Id. Consequently, the Commission estimates that most providers of competitive local exchange service, competitive access providers, and “Other Local Exchange Carriers” are small entities that may be affected by the rules and policies adopted herein.

39. Local Resellers. The SBA has developed a size standard for small businesses within the category of Telecommunications Resellers. Under that SBA size standard, such a business is small if it has 1,500 or fewer employees. 13 CFR 121.201, NAICS code 513330. According to the Commission's most recent Telephone Trends Report data, 134 companies reported that they were engaged in the provision of local resale services. Telephone Trends Report, Table 5.3. Of these 134 companies, an estimated 131 have 1,500 or fewer employees and three have more than 1,500 employees. Id. Consequently, the Commission estimates that the great majority of local resellers are small entities that may be affected by the rules and policies adopted herein.

40. Toll Resellers. The SBA has developed a size standard for small businesses within the category of Telecommunications Resellers. Under that SBA size standard, such a business is small if it has 1,500 or fewer employees. 13 CFR 121.201, NAICS code 513330. According to the Commission's most recent Telephone Trends Report data, 576 companies reported that they were engaged in the provision of toll resale services. Telephone Trends Report, Table 5.3. Of these 576 companies, an estimated 538 have 1,500 or fewer employees and 38 have more than 1,500 employees. Id. Consequently, the Commission estimates that the great majority of toll resellers are small entities that may be affected by the rules and policies adopted herein.

41. Payphone Service Providers. Neither the Commission nor the SBA has developed a size standard for small businesses specifically applicable to payphone service providers (PSPs). The closest applicable size standard under the SBA rules is for Wired Telecommunications Carriers. Under that standard, such a business is small if it has 1,500 or fewer employees. 13 CFR 121.201, NAICS code 513310. According to the Commission's most recent Telephone Trends Report data, 936 PSPs reported that they were engaged in the provision of payphone services. Telephone Trends Report, Table 5.3. Of these 936 PSPs, an estimated 933 have 1,500 or fewer employees and three have more than 1,500 employees. Id. Consequently, the Commission estimates that the great majority of PSPs are small entities that may be affected by the rules and policies adopted herein.

42. Interexchange Carriers. Neither the Commission nor the SBA has developed a size standard for small businesses specifically applicable to providers of interexchange services. The closest applicable size standard under the SBA rules is for Wired Telecommunications Carriers. Under that standard, such a business is small if it has 1,500 or fewer employees. 13 CFR 121.201, NAICS code 513310. According to the most recent Telephone Trends Report data, 229 carriers reported that their primary telecommunications service activity was the provision of interexchange services. Telephone Trends Report, Table 5.3. Of these 229 carriers, an estimated 181 have 1,500 or fewer employees and 48 have more than 1,500 employees. Id. Consequently, the Commission estimates that the majority of interexchange carriers are small entities that may be affected by the rules and policies adopted herein.

43. Operator Service Providers. Neither the Commission nor the SBA has developed a size standard for small businesses specifically applicable to operator service providers. The closest applicable size standard under the SBA rules is for Wired Telecommunications Carriers. Under that standard, such a business is small if it has 1,500 or fewer employees. 13 CFR 121.201, NAICS code 513310. According to the Commission's most recent Telephone Trends Report data, 22 companies reported that they were engaged in the provision of operator services. Telephone Trends Report, Table 5.3. Of these 22 companies, an estimated 20 have 1,500 or fewer employees and two have more than 1,500 employees. Id. Consequently, the Commission estimates that the great majority of operator service providers are small entities that may be affected by the rules and policies adopted herein.

44. Prepaid Calling Card Providers. The SBA has developed a size standard for small businesses within the category of Telecommunications Resellers. Under that SBA size standard, such a business is small if it has 1,500 or fewer employees. 13 CFR 121.201, NAICS code 513330. According to the Commission's most recent Telephone Trends Report data, 32 companies reported that they were engaged in the provision of prepaid calling cards. Telephone Trends Report, Table 5.3. Of these 32 companies, an estimated 31 have 1,500 or fewer employees and one has more than 1,500 employees. Id. Consequently, the Commission estimates that the great majority of prepaid calling card providers are small entities that may be affected by the rules and policies adopted herein.

45. Satellite Service Carriers. The SBA has developed a size standard for small businesses within the category of Satellite Telecommunications. Under that SBA size standard, such a business is small if it has $12.5 million or less in average annual receipts. 13 CFR 121.201, NAICS code 513340. According to the Commission's most recent Telephone Trends Report data, 31 carriers reported that they were engaged in the provision of satellite services. Telephone Trends Report, Table 5.3. Of these 31 carriers, an estimated 25 have 1,500 or fewer employees and six have more than 1,500 employees. Id. Consequently, the Commission estimates that most satellite service carriers are small entities that may be affected by the rules and policies adopted herein.

46. Other Toll Carriers. Neither the Commission nor the SBA has developed a size standard for small businesses specifically applicable to “Other Toll Carriers.” This category includes toll carriers that do not fall within the categories of interexchange carriers, operator service providers, prepaid calling card providers, satellite service carriers, or toll resellers. The closest applicable size standard under the SBA rules is for Wired Telecommunications Carriers. Under that standard, such a business is small if it has 1,500 or fewer employees. 13 CFR 121.201, NAICS code 513310. According to the Commission's most recent Telephone Trends Report data, 42 carriers reported that they were engaged in the provision of “Other Toll” services. Telephone Trends Report, Table 5.3. Of these 42 carriers, an estimated 37 have 1,500 or fewer employees and five have more than 1,500 employees. Id. Consequently, the Commission estimates that most “Other Toll Carriers” are small entities that may be affected by the rules and policies adopted herein.

47. Wireless Service Providers. The SBA has developed a size standard for wireless small businesses within the two separate categories of Paging and of Cellular and Other Wireless Telecommunications. Under those SBA size standards, such a business is small if it has 1,500 or fewer employees. 13 CFR 121.201, NAICS code 513322. According to the Commission's most recent Telephone Trends Report data, 1,761 companies reported that they were engaged in the provision of wireless service. Telephone Trends Report, Table 5.3. Of these 1,761 companies, an estimated 1,175 have 1,500 or fewer employees and 586 have more than 1,500 employees. Id. Consequently, the Commission estimates that most wireless service providers are small entities that may be affected by the rules and policies adopted herein.

48. Broadband Personal Communications Service. The broadband personal communications service (PCS) spectrum is divided into six frequency blocks designated A through F, and the Commission has held auctions for each block. The Commission defined “small entity” for Blocks C and F as an entity that has average gross revenues of $40 million or less in the three previous calendar years. See Amendment of Parts 20 and 24 of the Commission's Rules—Broadband PCS Competitive Bidding and the Commercial Mobile Radio Service Spectrum Cap, WT Docket No. 96-59, Report and Order, 61 FR 33859, July 1, 1996; see also 47 CFR 24.720(b). For Block F, an additional classification for “very small business” was added and is defined as an entity that, together with affiliates, has average gross revenues of not more than $15 million for the preceding three calendar years. See Amendment of Parts 20 and 24 of the Commission's Rules—Broadband PCS Competitive Bidding and the Commercial Mobile Radio Service Spectrum Cap, WT Docket No. 96-59, Report and Order, 61 FR 33859, July 1, 1996. These standards defining “small entity” in the context of broadband PCS auctions have been approved by the SBA. See, e.g., Implementation of Section 309(j) of the Communications Act—Competitive Bidding, PP Docket No. 93-253, Fifth Report and Order, 59 FR 37566, July 22, 1994. No small businesses within the SBA-approved small business size standards bid successfully for licenses in Blocks A and B. There were 90 winning bidders that qualified as small entities in the Block C auctions. A total of 93 small and very small business bidders won approximately 40 percent of the 1,479 licenses for Blocks D, E, and F. FCC News, Broadband PCS, D, E and F Block Auction Closes, No. 71744 (rel. Jan. 14, 1997); see also Amendment of the Commission's Rules Regarding Installment Payment Financing for Personal Communications Services (PCS) Licensees, WT Docket No. 97-82, Second Report and Order, 62 FR 55348, October 24, 1997. On March 23, 1999, the Commission reauctioned 347 C, D, E, and F Block licenses. There were 48 small business winning bidders. On January 26, 2001, the Commission completed the auction of 422 C and F Broadband PCS licenses in Auction No. 35. Of the 35 winning bidders in this auction, 29 qualified as “small” or “very small” businesses. Based on this information, the Commission concludes that the number of small broadband PCS licensees will include the 90 winning C Block bidders, the 93 qualifying bidders in the D, E, and F Block auctions, the 48 winning bidders in the 1999 re-auction, and the 29 winning bidders in the 2001 re-auction, for a total of 260 small entity broadband PCS providers, as defined by the SBA small business size standards and the Commission's auction rules. Consequently, the Commission estimates that 260 broadband PCS providers are small entities that may be affected by the rules and policies adopted herein.

49. 800 MHz and 900 MHz Specialized Mobile Radio Licensees. The Commission awards “small entity” and “very small entity” bidding credits in auctions for Specialized Mobile Radio (SMR) geographic area licenses in the 800 MHz and 900 MHz bands to firms that had revenues of no more than $15 million in each of the three previous calendar years, or that had revenues of no more than $3 million in each of the three previous calendar years, respectively. 47 CFR 90.814. In the context of both the 800 MHz and 900 MHz SMR service, the definitions of “small entity” and “very small entity” have been approved by the SBA. These bidding credits apply to SMR providers in the 800 MHz and 900 MHz bands that either hold geographic area licenses or have obtained extended implementation authorizations. The Commission does not know how many firms provide 800 MHz or 900 MHz geographic area SMR service pursuant to extended implementation authorizations, nor how many of these providers have annual revenues of no more than $15 million. One firm has over $15 million in revenues. The Commission assumes, for its purposes here, that all of the remaining existing extended implementation authorizations are held by small entities, as that term is defined by the SBA. The Commission has held auctions for geographic area licenses in the 800 MHz and 900 MHz SMR bands. There were 60 winning bidders that qualified as small and very small entities in the 900 MHz auctions. Of the 1,020 licenses won in the 900 MHz auction, bidders qualifying as small and very small entities won 263 licenses. In the 800 MHz SMR auction, 38 of the 524 licenses won were won by small and very small entities. Consequently, the Commission estimates that there are 301 or fewer small entity SMR licensees in the 800 MHz and 900 MHz bands that may be affected by the rules and policies adopted herein.

50. Rural Radiotelephone Service. The Commission has not adopted a size standard for small businesses specific to the Rural Radiotelephone Service. The service is defined in 47 CFR 22.99. A significant subset of the Rural Radiotelephone Service is the Basic Exchange Telephone Radio Systems (BETRS). BETRS is defined in 47 CFR 22.757, 22.759. For purposes of this Supplemental FRFA, the Commission uses the SBA's size standard applicable to wireless service providers, supra—an entity employing no more than 1,500 persons. 13 CFR 121.201, NAICS codes 513321, 513322. There are approximately 1,000 licensees in the Rural Radiotelephone Service, and the Commission estimates that almost all of them qualify as small entities under the SBA's size standard. Consequently, the Commission estimates that there are 1,000 or fewer small entity licensees in the Rural Radiotelphone Service that may be affected by the rules and policies adopted herein.

51. Fixed Microwave Services. Microwave services include common carrier, private-operational fixed, and broadcast auxiliary radio services. For common carrier fixed microwave services (except Multipoint Distribution Service), see 47 CFR part 101 (formerly 47 CFR part 21). Persons eligible under parts 80 and 90 of the Commission's rules can use Private Operational-Fixed Microwave services. See 47 CFR parts 80, 90. Stations in this service are called operational-fixed to distinguish them from common carrier and public fixed stations. Only the licensee may use the operational-fixed station, and only for communications related to the licensee's commercial, industrial, or safety operations. Auxiliary Microwave Service is governed by 47 CFR part 74. The Auxiliary Microwave Service is available to licensees of broadcast stations and to broadcast and cable network entities. Broadcast auxiliary microwave stations are used for relaying broadcast television signals from the studio to the transmitter, or between two points, such as, a main studio and an auxiliary studio. The service also includes mobile TV pickups, which relay signals from a remote location back to the studio.

52. At present, there are approximately 22,015 common carrier fixed licensees and 61,670 private operational-fixed licensees and broadcast auxiliary radio licensees in the microwave services. The Commission has not created a size standard for a small business specifically with respect to microwave services. For purposes of this Supplemental FRFA, the Commission uses the SBA's size standard applicable to wireless service providers, supra—an entity with no more than 1,500 persons. 13 CFR 121.201, NAICS codes 513321, 513322. The Commission does not have data specifying the number of these licensees that have more than 1,500 employees, and thus is unable at this time to estimate with greater precision the number of fixed microwave service licensees that would qualify as small business concerns under the SBA's definition. Consequently, the Commission estimates that there are 22,015 or fewer small common carrier fixed microwave licensees and 61,670 or fewer small private operational-fixed microwave licensees and small broadcast auxiliary radio licensees in the microwave services that may be affected by the rules and policies adopted herein. The Commission notes, however, that the common carrier microwave fixed licensee category includes some large entities.

53. 39 GHz Licensees. The Commission has created a special small business size standard for 39 GHz licenses—an entity that has average gross revenues of $40 million or less in the three previous calendar years. See Amendment of the Commission's Rules Regarding the 37.0-38.6 GHz and 38.6-40.0 GHz Bands, ET Docket No. 95-183, Report and Order, 63 FR 6079, February 6, 1998. An additional size standard for “very small business” is: An entity that, together with affiliates, has average gross revenues of not more than $15 million for the preceding three calendar years. Id. The SBA has approved these size standards. See Letter to Kathleen O'Brien Ham, Chief, Auctions and Industry Analysis Division, Wireless Telecommunications Bureau, FCC, from Aida Alvarez, Administrator, SBA (Feb. 4, 1998). The auction of the 2,173 39 GHz licenses began on April 12, 2000 and closed on May 8, 2000. The 18 bidders who claimed small business status won 849 licenses. Consequently, the Commission estimates that 18 or fewer 39 GHz licensees are small entities that may be affected by the rules and policies adopted herein.

Description of Projected Reporting, Recordkeeping, and Other Compliance Requirements

54. As mandated by the court in the Illinois decision, the Commission established in this Order a compensation procedure for resolving monthly payments and refunds between PSPs and carriers for the Interim Period, beginning November 7, 1996, through October 6, 1997, where PSPs and carriers may have been overpaid or underpaid for per-payphone compensation. The Commission also applied the Interim Period procedures to cover the subsequent Intermediate Period, beginning October 7, 1997, through April 20, 1999. With this exception, this Order imposes no new reporting, recordkeeping or other compliance requirements not previously adopted in this or related payphone proceedings.

Steps Taken To Minimize Significant Economic Impact on Small Entities, and Significant Alternatives Considered

55. Although the Commission rejected a proposal to establish a carrier-to-carrier payment mechanism for resolving payments and refunds due to the degree of regulatory intervention it would require, the Commission specified carrier-specific per-call costs that can be used by carriers and PSPs to calculate total overpayments or underpayments. The Commission also affirmed the conclusions reached in the Fourth Reconsideration Order that alternative payment arrangements can be made between or among carriers, provided affected PSPs agree. Adoption of this payment scheme will minimize the economic impact and administrative burden for both payors and recipients of per-payphone compensation, including small entities.

56. The Commission recognized in this Order that small entities such as PSPs would be disadvantaged by true up and offset mechanisms used in the per-call compensation process because carriers could use a self-help remedy of withholding future payments from PSPs and would have no incentive to resolve such disputes in a timely manner. See paragraph 20, supra. The Commission affirmed the conclusion reached in the Third Report and Order that carriers may deduct the remaining overpayments from future payments to PSPs, but clarified that it may only be done as follows: (1) Carriers may only withhold undisputed amounts from future payments; (2) carriers may not withhold any amounts from future payments until PSPs and carriers have had an opportunity to apply the refund against Interim and Intermediate Period compensation claimed by the PSP; and (3) carriers must allow PSPs to make payments of refunds over multiple future payments subject to ongoing accrual of interest, if reasonably requested by the PSP. These procedural safeguards will restore necessary measures of fairness to the process for small entities.

Report to Congress

57. The Commission will send a copy of this Order, including this Supplemental FRFA, in a report to Congress pursuant to the Congressional Review Act. 5 U.S.C. 801(a)(1)(A). In addition, the Commission will send a copy of this Order, including this Supplemental FRFA, to the Chief Counsel for Advocacy of the Small Business Administration. See 5 U.S.C. 604(b).

Ordering Clauses

58. Accordingly, pursuant to the authority contained in 47 U.S.C. 151, 154, 201-205, 215, 218, 219, 220, 226, 276 and 405, it is ordered that the policies, rules and requirements set forth herein are adopted.

59. It is further ordered that the Commission's Consumer and Governmental Affairs Bureau, Reference Information Center, shall send a copy of this Fifth Order on Reconsideration and Order on Remand, including the Supplemental Final Regulatory Flexibility Analysis, to the Chief Counsel for Advocacy of the Small Business Administration.

List of Subjects in 47 CFR Part 64

Communications common carriers, Telecommunications, Telephone.

Federal Communications Commission.
Marlene H. Dortch,
Secretary.

Rules Changes

For the reasons discussed in the preamble, the Federal Communications Commission amends 47 CFR part 64 as follows:

PART 64—MISCELLANEOUS RULES RELATING TO COMMON CARRIERS

1. The authority citation for part 64 continues to read as follows:

Authority: 47 U.S.C. 154, 47 U.S.C. 225, 47 U.S.C. 251(e)(1), 47 U.S.C. 276. 151, 154, 201, 202, 205, 218-220, 254, 276, 302, 303, and 337 unless otherwise noted. Interpret or apply sections 201, 218, 225, 226, 227, 229, 332, 48 Stat. 1070, as amended. 47 U.S.C. 201-204, 208, 225, 226, 227, 229, 332, 501 and 503 unless otherwise noted.

2. Revise § 64.1301 to read as follows:

§ 64.1301 Per-payphone compensation.

(a) Interim access code and subscriber 800 calls. In the absence of a negotiated agreement to pay a different amount, each entity listed in Appendix A of the Fifth Order on Reconsideration and Order on Remand in CC Docket No. 96-128, FCC 02-292, must pay default compensation to payphone service providers for payphone access code calls and payphone subscriber 800 calls for the period beginning November 7, 1996, and ending October 6, 1997, in the amount listed in Appendix A per payphone per month. A complete copy of Appendix A is available at www.fcc.gov.

(b) Interim payphone compensation for inmate calls. In the absence of a negotiated agreement to pay a different amount, if a payphone service provider providing inmate service was not compensated for calls originating at an inmate telephone during the period starting on November 7, 1996, and ending on October 6, 1997, an interexchange carrier to which the inmate telephone was presubscribed during this same time period must compensate the payphone service provider providing inmate service at the default rate of $0.238 per inmate call originating during the same time period, except that a payphone service provider that is affiliated with a local exchange carrier is not eligible to receive payphone compensation prior to April 16, 1997, or, in the alternative, the first day following both the termination of subsidies and payphone reclassification and transfer, whichever date is latest.

(c) Interim compensation for 0+ payphone calls. In the absence of a negotiated agreement to pay a different amount, if a payphone service provider was not compensated for 0+ calls originating during the period starting on November 7, 1996, and ending on October 6, 1997, an interexchange carrier to which the payphone was presubscribed during this same time period must compensate the payphone service provider in the default amount of $4.2747 per payphone per month during the same time period, except that a payphone service provider that is affiliated with a local exchange carrier is not eligible to receive payphone compensation prior to April 16, 1997, or, in the alternative, the first day following both the termination of subsidies and payphone reclassification and transfer, whichever date is latest.

(d) Intermediate access code and subscriber 800 calls. In the absence of a negotiated agreement to pay a different amount, each entity listed in Appendix B of the Fifth Order on Reconsideration and Order on Remand in CC Docket No. 96-128, FCC 02-292, must pay default compensation to payphone service providers for access code calls and payphone subscriber 800 calls for the period beginning October 7, 1997, and ending April 20, 1999, in the amount listed in Appendix B for any payphone for any month during which per-call compensation for that payphone for that month was not paid by the listed entity. A complete copy of Appendix B is available at www.fcc.gov.

(e) Post-intermediate access code and subscriber 800 calls. In the absence of a negotiated agreement to pay a different amount, each entity listed in Appendix C of the Fifth Order on Reconsideration and Order on Remand in CC Docket No. 96-128, FCC 02-292, must pay default compensation to payphone service providers for access code calls and payphone subscriber 800 calls for the period beginning April 21, 1999, in the amount listed in Appendix C for any payphone for any month during which per-call compensation for that payphone for that month was or is not paid by the listed entity. A complete copy of Appendix C is available at www.fcc.gov.

[FR Doc. 02-30499 Filed 12-2-02; 8:45 am]

BILLING CODE 6712-01-P